FEDERAL COMMUNICATIONS COMMISSION

47 CFR Parts 2, 13 and 80

[WT Docket No. 00-48; FCC 02-102; RM-9499]

Maritime Communications

AGENCY: Federal Communications Commission.

ACTION: Final rule.

SUMMARY: In this document the Commission consolidates, revises and streamlines the Commission's rules governing maritime communications. These changes incorporate new international maritime requirements, improve the operational ability of all users of marine radios, and remove unnecessary or duplicative requirements from the rules.

DATES: Effective October 6, 2003. The incorporation by reference of certain publications listed in the regulations is approved by the Director of the Federal Register, as of October 6, 2003.

FOR FURTHER INFORMATION CONTACT: Jeffrey Tobias, jtobias@FCC.gov, or Ghassan Khalek, gkhalek@fcc.gov, Policy and Rules Branch, Public Safety and Private Wireless Division, Wireless Telecommunications Bureau, (202) 418-0680, or TTY (202) 418-7233.

SUPPLEMENTARY INFORMATION: This is a summary of the Federal Communications Commission's Report and Order, FCC 02-102, adopted on March 27, 2002, and released on April 9, 2002. The full text of this document is available for inspection and copying during normal business hours in the FCC Reference Center, 445 12th Street, SW., Washington, DC 20554. The complete text may be purchased from the Commission's copy contractor, Qualex International, 445 12th Street, SW., Room CY-B402, Washington, DC 20554. The full text may also be downloaded at: http://www.fcc.gov. Alternative formats are available to persons with disabilities by contacting Brian Millin at (202) 418-7426 or TTY (202) 418-7365 or at bmillin@fcc.gov.

1. In this Report and Order, we adopt changes to part 80 of the Commission's rules that were either proposed in or suggested in response to the Notice of Proposed Rule Making (“NPRM”) in this proceeding. The NPRM, released on March 24, 2000, 65 FR 21694, April 24, 2000, proposed rule changes that were intended to consolidate, revise and streamline our rules governing maritime communications pursuant to requests from the National GMDSS Implementation Task Force and Globe Wireless, Inc. These changes were proposed to address new international maritime requirements, improve the operational ability of all users of marine radios and remove unnecessary or duplicative requirements from our rules.

2. The significant actions taken in this Report and Order are as follows: (1) The extension of the fishing vessel exemption from Global Maritime Distress and Safety System (GMDSS) requirements until one year after the United States Coast Guard (USCG) establishes Sea Areas A1 and A2; (2) the establishment of a Restricted GMDSS Radio Operator's License; (3) the authorization of the USCG or its designee to issue a Proof of Passing Certificate that would allow operators to obtain an FCC GMDSS Radio Operator's License; (4) the modification of certain sections of our rules to implement international standards; (5) the imposition of a mandatory watch on Channel 70 for voluntary vessels; (6) the allowance of J2B and J2D transmissions on frequencies currently reserved for Morse Code transmissions; (7) the removal of certification for Class S emergency position indicating radiobeacons; and (8) the elimination of subpart Q and the streamlining of subpart R of part 80 of the Commission's rules. In addition, we today decide not to extend the fishing vessel exemption to other vessels.

I. Regulatory Matters

A. Paperwork Reduction Act

3. This Report and Order and Further Notice of Proposed Rule Making does not contain any new or modified information collection.

B. Final Regulatory Flexibility Certification

4. The Regulatory Flexibility Act (RFA) requires that an agency prepare a regulatory flexibility analysis for notice and comment rulemakings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A small business concern is one that: (1) Is independently owned and operated; (2) is not dominant in its field of operation; and (3) satisfies any additional criteria established by the SBA.

5. The purpose of this Report and Order and Further Notice of Proposed Rule Making is to streamline and clarify our rules under Parts 13 and 80 governing maritime communications. We believe that the rules adopted in the Report and Order do not impose any additional compliance burden on small entities regulated by the Commission.

6. We have identified those small entities that could conceivably be affected by the rule changes adopted herein. Small businesses in the aviation and marine radio services use a marine very high frequency (VHF) radio, any type of emergency position indicating radio beacon (EPIRB) and/or radar, a VHF aircraft radio, and/or any type of emergency locator transmitter (ELT). The Commission has not developed a definition of small entities specifically applicable to these small businesses. For purposes of this certification, therefore, the applicable definition of small entity is the definition under the SBA rules applicable to radiotelephone (wireless) communications. This definition is that a “small entity” for purposes of public coast station licensees, a subgroup of marine radio users, is any entity employing 1,500 or fewer persons. 13 CFR 121.201, Standard Industrial Classification (SIC) Code 4812, now NAICS Code 513322. Since the size data provided by the Small Business Administration do not enable us to make a meaningful estimate of the number of marine radio service providers and users that are small businesses, we have used the 1992 Census of Transportation, Communications, and Utilities, conducted by the Bureau of the Census, which is the most recent information available. This document shows that 12 radiotelephone firms out of a total of 1,178 such firms which operated in 1992 had at least 1,000 employees.

7. The adopted rules may also affect small businesses that manufacture marine radio equipment. The Commission has not developed a definition of small entities applicable to Radio Frequency Equipment Manufacturers (RF Manufacturers). Therefore, the applicable definition of small entity is the definition under the SBA rules applicable to manufacturers of “Radio and Television Broadcasting and Communications Equipment.” According to the SBA regulations, an RF manufacturer must have 750 or fewer employees in order to qualify as a small business. 13 CFR § 121.201, North American Industrial Classification System (NAICS) Code 33422. Census Bureau data indicate that there are 858 companies in the United States that manufacture radio and television broadcasting and communications equipment, and that 778 of these firms have fewer than 750 employees and would be classified as small entities.

8. We anticipate that these rule changes will not impose any new burdens on small entities, but in fact will reduce regulatory and procedural burdens on small entities. For example, the incorporation by reference into our rules of updated technical requirements for maritime radio equipment, i.e., modified International Electrotechnical Commission (IEC) standards, can be expected to ultimately reduce compliance costs for ship owners and manufacturers because it avoids inconsistency between domestic and international requirements, providing internationally recognized criteria and test procedures for certification of GMDSS equipment. Moreover, to mitigate any potential compliance burden on manufacturers and ship owners that could stem from a sudden change in the standards, we established grandfathering provisions that allow the installation of equipment meeting the old standards for a significant period of time after the effective date of these rules. More broadly speaking, the general effect of the rule changes adopted herein is to streamline the rules, remove duplicative requirements, provide greater operational flexibility, promote spectrum efficiency, and make our rules consistent with international requirements, all of which are measures that should have an overall beneficial effect on the regulated entities. We certified in the NPRM in this proceeding that the rules proposed therein will not, if promulgated, have a significant economic impact upon a substantial number of small entities, as that term is defined by the RFA, and no party has challenged or otherwise commented on that certification.

9. We therefore certify that the requirements of this Report and Order will not have a significant economic impact upon a substantial number of small entities, as that term is defined by the RFA.

10. The Commission will send a copy of this Report and Order, including a copy of this final certification, in a report to Congress pursuant to the Congressional Review Act. In addition, the Report and Order and this final certification will be sent to the Chief Counsel for Advocacy of the Small Business Administration, and will be published in the Federal Register.

11. To fully ensure that potential compliance burdens on small entities are fully explored, however, we have determined not to act immediately on certain proposals set forth in the NPRM or raised by commenters, but instead to seek further comment on those proposals. These matters are discussed in the Further Notice of Proposed Rule Making.

II. Ordering Clauses

12. The Commission's Consumer Information Bureau, Reference Information Center, shall send a copy of this Report and Order including the Regulatory Flexibility Certification to the Chief Counsel for Advocacy of the Small Business Administration.

List of Subjects

47 CFR Parts 2 and 13

Radio.

47 CFR Part 80

Communications equipment, Incorporation by reference, Marine safety, Radio, Reporting and recordkeeping requirements.

Federal Communications Commission.
Marlene H. Dortch,
Secretary.

Rule Changes

For the reasons discussed in the preamble, the Federal Communications Commission amends 47 CFR Parts 2, 13 and 80 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106 is amended by revising footnote US296 to read as follows:

§ 2.106 Table of Frequency Allocations.

* * * * *

US296 In the bands designated for ship wide-band telegraphy, facsimile and special transmission systems, the following assignable frequencies are available to non-Federal Government stations on a shared basis with Federal Government stations: 2070.5 kHz, 2072.5 kHz, 2074.5 kHz, 2076.5 kHz, 4154 kHz, 4170 kHz, 6235 kHz, 6259 kHz, 8302 kHz, 8338 kHz, 12370 kHz, 12418 kHz, 16551 kHz, 16615 kHz, 18848 kHz, 18868 kHz, 22182 kHz, 22238 kHz, 25123 kHz, and 25159 kHz.

* * * * *

PART 13—COMMERCIAL RADIO OPERATORS

3. The authority citation for part 13 continues to read as follows:

Authority: Secs. 4, 303, 48 Stat. 1066, 1082, as amended; 47 U.S.C. 154, 303.

4. Section 13.7 is amended by revising paragraph (b) introductory text, redesignating paragraph (b)(9) as (b)(10), and adding a new paragraph (b)(9) to read as follows:

§ 13.7 Classification of operator licenses and endorsements.

* * * * *

(b) There are ten types of commercial radio operator licenses, certificates and permits (licenses). The license's ITU classification, if different from its name, is given in parentheses.

* * * * *

(9) Restricted GMDSS Radio Operator's License (restricted operator's certificate).

* * * * *

5. Section 13.9 is amended by revising paragraphs (b)(1) and (c) to read as follows:

§ 13.9 Eligibility and application for new license or endorsement.

* * * * *

(b)(1) Each application for a new General Radiotelephone Operator License, Marine Radio Operator Permit, First Class Radiotelegraph Operator's Certificate, Second Class Radiotelegraph Operator's Certificate, Third Class Radiotelegraph Operator's Certificate, Ship Radar Endorsement, Six Months Service Endorsement, GMDSS Radio Operator's License, Restricted GMDSS Radio Operator's License, GMDSS Radio Maintainer's License and GMDSS Radio Operator/Maintainer License must be filed on FCC Form 605 in accordance with § 1.913 of this chapter.

* * * * *

(c) Each application for a new General Radiotelephone Operator License, Marine Radio Operator Permit, First Class Radiotelegraph Operator's Certificate, Second Class Radiotelegraph Operator's Certificate, Third Class Radiotelegraph Operator's Certificate, Ship Radar Endorsement, GMDSS Radio Operator's License, Restricted GMDSS Radio Operator's License, GMDSS Radio Maintainer's License, or GMDSS Radio Operator/Maintainer License must be accompanied by the required fee, if any, and submitted in accordance with § 1.913 of this chapter. The application must include an original PPC(s) from a COLEM(s) showing that the applicant has passed the necessary examination element(s) within the previous 365 days when the applicant files the application. If a COLEM files the application electronically on behalf of the applicant an original PPC(s) is not required. However, the COLEM must keep the PPC(s) on file for a period of 1 year.

* * * * *

6. Section 13.13 is amended by revising paragraph (a), redesignating paragraph (d) as (e), and adding a new paragraph (d) to read as follows:

§ 13.13 Application for a renewed or modified license.

(a) Each application to renew a First Class Radiotelegraph Operator's Certificate, Second Class Radiotelegraph Operator's Certificate, Third Class Radiotelegraph Operator's Certificate, Marine Radio Operator Permit, GMDSS Radio Operator's License, Restricted GMDSS Radio Operator's License, GMDSS Radio Maintainer's License, or GMDSS Radio Operator/Maintainer License must be made on FCC Form 605. The application must be accompanied by the appropriate fee and submitted in accordance with § 1.913 of this chapter.

* * * * *

(d) Provided that a person's commercial radio operator license was not revoked, or suspended, and is not the subject of an ongoing suspension proceeding, a person holding a General Radiotelephone Operator License, Marine Radio Operator Permit, First Class Radiotelegraph Operator's Certificate, Second Class Radiotelegraph Operator's Certificate, Third Class Radiotelegraph Operator's Certificate, GMDSS Radio Operator's License, Restricted GMDSS Radio Operator's License, GMDSS Radio Maintainer's License, or GMDSS Radio Operator/Maintainer license, who has an application for another commercial radio operator license which has not yet been acted upon pending at the FCC and who holds a PPC(s) indicating that he or she passed the necessary examination(s) within the previous 365 days, is authorized to exercise the rights and privileges of the license for which the application is filed. This temporary conditional operating authority is valid for a period of 90 days from the date the application is received. This temporary conditional operating authority does not relieve the licensee of the obligation to comply with the certification requirements of the Standards of Training, Certification and Watchkeeping (STCW) Convention. The FCC, in its discretion, may cancel this temporary conditional operating authority without a hearing.

* * * * *

7. Section 13.17 is amended by revising paragraph (b) to read as follows:

§ 13.17 Replacement license.

* * * * *

(b) Each application for a replacement General Radiotelephone Operator License, Marine Radio Operator Permit, First Class Radiotelegraph Operator's Certificate, Second Class Radiotelegraph Operator's Certificate, Third Class Radiotelegraph Operator's Certificate, GMDSS Radio Operator's License, Restricted GMDSS Radio Operator License, GMDSS Radio Maintainer's License, or GMDSS Radio Operator/Maintainer license must be made on FCC Form 605 and must include a written explanation as to the circumstances involved in the loss, mutilation, or destruction of the original document.

* * * * *

8. Section 13.201 is amended by revising paragraph (b)(6), redesignating paragraphs (b)(7) and (b)(8) as paragraphs (b)(8) and (b)(9), and adding a new paragraph (b)(7) to read as follows:

§ 13.201 Qualifying for a commercial operator license or endorsement.

* * * * *

(b) * * *

(6) GMDSS Radio Operator's License: Written Elements 1 and 7, or a Proof of Passing Certificate (PPC) issued by the United States Coast Guard or its designee representing a certificate of competency from a Coast Guard-approved training course for a GMDSS endorsement.

(7) Restricted GMDSS Radio Operator License: Written Elements 1 and 7R, or a Proof of Passing Certificate (PPC) issued by the United States Coast Guard or its designee representing a certificate of competency from a Coast Guard-approved training course for a GMDSS endorsement.

* * * * *

PART 80—STATIONS IN THE MARITIME SERVICES

9. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

10. Section 80.5 is amended by adding an entry for INMARSAT in alphabetical order and revising the entries for Digital selective calling, Distress signal, Distress traffic, Inland waters, Maritime mobile service identities (MMSI), Safety signal, and Urgency signal to read as follows:

§ 80.5 Definitions.

* * * * *

Digital selective calling (DSC). A synchronous system developed by the International Telecommunication Union Radiocommunication (ITU-R) Sector, used to establish contact with a station or group of stations automatically by means of radio. The operational and technical characteristics of this system are contained in Recommendations ITU-R M.493-10, “Digital Selective-calling System for Use in the Maritime Mobile Service,” with Annexes 1 and 2, 2000, and ITU-R M.541-8, “Operational Procedures for the Use of Digital Selective-Calling Equipment in the Maritime Mobile Service,” with Annexes, 1997. (see subpart W of this part.) ITU-R Recommendations M.493-10 with Annexes 1 and 2 and M.541-8 with Annexes are incorporated by reference. The Director of the Federal Register approves this incorporation by reference in accordance with 5 U.S.C. 552(a) and 1 CFR Part 51. Copies of these standards can be inspected at the Federal Communications Commission, 445 12th Street, SW., Washington, DC (Reference Information Center) or at the Office of the Federal Register, 800 North Capitol Street, NW. Suite 700, Washington, DC. The ITU-R Recommendations can be purchased from the International Telecommunication Union (ITU), Place des Nations, CH-1211 Geneva 20, Switzerland.

* * * * *

Distress signal. The distress signal is a digital selective call using an internationally recognized distress call format in the bands used for terrestrial communication or an internationally recognized distress message format, in which case it is relayed through space stations, which indicates that a person, ship, aircraft, or other vehicle is threatened by grave and imminent danger and requests immediate assistance.

(1) In radiotelephony, the international distress signal consists of the enunciation of the word “Mayday”, pronounced as the French expression “m'aider”. In case of distress, transmission of this particular signal is intended to ensure recognition of a radiotelephone distress call by stations of any nationality.

(2) For GMDSS, distress alerts result in an audible alarm and visual indication that a ship or person is threatened by grave and imminent danger and requests immediate assistance. These automatic systems contain sufficient information in the distress alert message to identify the vessel, prepare to assist and begin a search. However, except when transmitted via satellite EPIRB, the distress alert is just the initial call for help. Communication between the vessel or person in distress and the Rescue Coordination Center (RCC) or ship assisting should always follow.

Distress traffic. Distress traffic consists of all messages relating to the immediate assistance required by a person, ship, aircraft, or other vehicle in distress, including search and rescue communications and on-scene communications.

* * * * *

Inland waters. This term, as used in reference to waters of the United States, its territories and possessions, means waters that lie landward of the boundary lines of inland waters as contained in 33 CFR 80.01, as well as waters within its land territory, such as rivers and lakes, over which the United States exercises sovereignty.

INMARSAT. INMARSAT Ltd. is a private commercial company licensed in the United Kingdom.

* * * * *

Maritime mobile service identities (MMSI). An international system for the identification of radio stations in the maritime mobile service. The system is comprised of a series of nine digits which are transmitted over the radio path to uniquely identify ship stations, ship earth stations, coast stations, coast earth stations and groups of stations.

* * * * *

Safety signal. (1) The safety signal is the international radiotelegraph or radiotelephone signal which indicates that the station sending this signal is preparing to transmit a message concerning the safety of navigation or giving important meteorological warnings.

(2) In radiotelegraphy, the international safety signals consists of three repetitions of the group “TTT,” sent before the call, with the letters of each group and the successive groups clearly separated from each other.

(3) In radiotelephony, the international safety signal consists of three oral repetitions of “Security,” pronounced as the French word “Securite,” sent before the call.

(4) For GMDSS, safety calls result in an audible alarm and visual indication that the station sending this signal has a very urgent message to transmit concerning the safety of navigation or giving important meteorological warnings.

* * * * *

Urgency signal. (1) The urgency signal is the international radiotelegraph or radiotelephone signal which indicates that the calling station has a very urgent message to transmit concerning the safety of a ship, aircraft, or other vehicle, or of some person on board or within sight.

(2) In radiotelegraphy, the international urgency signal consists of three repetitions of the group “XXX,” sent before the call, with the letters of each group and the successive groups clearly separated from each other.

(3) In radiotelephony, the international urgency signal consists of three oral repetitions of the group of words “PAN PAN”, each word of the group pronounced as the French word “PANNE” and sent before the call.

(4) For GMDSS, urgency calls result in an audible alarm and visual indication that the station sending this signal has a very urgent message to transmit concerning the safety of a ship, aircraft, or other vehicle, or of some person on board or within sight.

* * * * *

11. Section 80.15 is amended by removing paragraph (e)(1), redesignating paragraphs (e)(2) and (e)(3) as paragraphs (e)(1) and (e)(2), and revising newly redesignated paragraph (e)(1) introductory text to read as follows:

§ 80.15 Eligibility for station license.

* * * * *

(e) EPIRB stations. (1) Class A or Class B EPIRB stations will be authorized for use on board the following types of vessels until December 31, 2006:

* * * * *

12. Section 80.51 is revised to read as follows:

§ 80.51 Ship earth station licensing.

A ship earth station authorized to operate in the INMARSAT space segment must display the Commission license in conjunction with the commissioning certificate issued by the INMARSAT Organization. Notwithstanding the requirements in this paragraph, ship earth stations can operate in the INMARSAT space segment without an INMARSAT issued commissioning certificate provided an appropriate written approval is obtained from the INMARSAT Organization in addition to the Commission's license.

13. Section 80.59 is amended by revising paragraph (c)(1)(x)(C) to read as follows:

§ 80.59 Compulsory ship inspections.

* * * * *

(c) * * *

(1) * * *

(x) * * *

(C) Category 1, 406.0-406.1 MHz EPIRB (GMDSS approved);

* * * * *

14. Section 80.67 is amended by revising paragraph (b) to read as follows:

§ 80.67 General facilities requirements for coast stations.

* * * * *

(b) All coast stations that operate telephony on frequencies in the 1605-3500 kHz band must be able to transmit and receive using J3E emission on the frequency 2182 kHz and at least one working frequency in the band.

§ 80.89 [Amended]

15. Section 80.89 is amended by removing paragraph (e) and redesignating paragraphs (f) and (g) as paragraphs (e) and (f).

16. Section 80.91 is revised to read as follows:

§ 80.91 Order of priority of communications.

(a) All stations in the maritime mobile service and the maritime mobile-satellite service shall be capable of offering four levels of priority in the following order:

(1) Distress calls, distress messages, and distress traffic.

(2) Urgency communications.

(3) Safety communications.

(4) Other communications.

(b) In a fully automated system, where it is impracticable to offer all four levels of priority, category 1 shall receive priority until such time as intergovernmental agreements remove exemptions granted for such systems from offering the complete order of priority.

17. Section 80.93 is amended by redesignating paragraph (d) as paragraph (e), adding a new paragraph (d), and revising paragraph (c) and newly designated paragraph (e) to read as follows:

§ 80.93 Hours of service.

* * * * *

(c) Compulsory ship stations. (1) Compulsory ship stations whose service is not continuous may not suspend operation before concluding all traffic originating in or destined for public coast stations situated within their range and mobile stations which have indicated their presence.

(2) For GMDSS ships, radios shall be turned on and set to proper watch channels while ships are underway. If a ship has duplicate GMDSS installations for DSC or INMARSAT, only one of each must be turned on and keeping watch.

(d) Ships voluntarily fitting GMDSS subsystems. For ships voluntarily fitting GMDSS subsystems, radios shall be turned on and set to proper watch channels while ships are underway. If ship has duplicate GMDSS installations for DSC or INMARSAT, only one of each must be turned on and keeping watch.

(e) Other than public coast or compulsory ship stations. The hours of service of stations other than those described in paragraphs (b), (c), and (d) of this section are determined by the station licensee.

18. Section 80.101 is amended by revising paragraphs (b) and (c) to read as follows:

§ 80.101 Radiotelephone testing procedures.

* * * * *

(b) Testing of transmitters must be confined to single frequency channels on working frequencies. However, 2182 kHz and 156.800 MHz may be used to contact ship or coast stations as appropriate when signal reports are necessary. Short tests on 4125 kHz are permitted by vessels equipped with MF/HF radios to evaluate the compatibility of the equipment for distress and safety purposes. U.S. Coast Guard stations may be contacted on 2182 kHz or 156.800 MHz for test purposes only when tests are being conducted by Commission employees, when FCC-licensed technicians are conducting inspections on behalf of the Commission, when qualified technicians are installing or repairing radiotelephone equipment, or when qualified ship's personnel conduct an operational check requested by the U.S. Coast Guard. In these cases the test must be identified as “FCC” or “technical.”

(c) Survival craft transmitter tests must not be made within actuating range of automatic alarm receivers.

19. Section 80.102 is amended by redesignating paragraph (e) as paragraph (f) and adding a new paragraph (e) to read as follows:

§ 80.102 Radiotelephone station identification.

* * * * *

(e) Voice traffic in the INMARSAT system is closed to other parties except the two stations involved and the identification is done automatically with the establishment of the call. Therefore, it is not necessary for these stations to identify themselves periodically during the communication. For terrestrial systems using DSC to establish radiotelephone communications, the identification is made at the beginning of the call. In these cases, both parties must identify themselves by ship name, call sign or MMSI at least once every 15 minutes during radiotelephone communications.

* * * * *

20. Section 80.103 is revised to read as follows:

§ 80.103 Digital selective calling (DSC) operating procedures.

(a) Operating procedures for the use of DSC equipment in the maritime mobile service are as contained in ITU-R M.541-8, “Operational Procedures for the Use of Digital Selective-Calling Equipment in the Maritime Mobile Service,” with Annexes, 1997, and subpart W of this part.

(b) When using DSC techniques, coast stations and ship stations must use maritime mobile service identities (MMSI) assigned by the Commission or its designees.

(c) DSC acknowledgement of DSC distress and safety calls must be made by designated coast stations and such acknowledgement must be in accordance with procedures contained in ITU-R M.541-8, “Operational Procedures for the Use of Digital Selective-Calling Equipment in the Maritime Mobile Service,” with Annexes, 1997. Nondesignated public and private coast stations must follow the guidance provided for ship stations in ITU-R M.541-8, “Operational Procedures for the Use of Digital Selective-Calling Equipment in the Maritime Mobile Service,” with Annexes, 1997, with respect to DSC “Acknowledgement of distress calls” and “Distress relays.” (See subpart W of this part.)

(d) Group calls to vessels under the common control of a single entity are authorized. A group call identity may be created from an MMSI ending in a zero, assigned to this single entity, by deleting the trailing zero and adding a leading zero to the identity.

(e) ITU-R M.541-8 with Annexes, 1997, is incorporated by reference. The Director of the Federal Register approves this incorporation by reference in accordance with 5 U.S.C. 552(a) and 1 CFR Part 51. Copies of this standard can be inspected at the Federal Communications Commission, 445 12th Street, SW., Washington, DC (Reference Information Center) or at the Office of the Federal Register, 800 North Capitol Street, NW., Suite 700, Washington, DC. The ITU-R Recommendation can be purchased from the International Telecommunication Union (ITU), Place des Nations, CH-1211 Geneva 20, Switzerland.

§ 80.116 [Amended]

21. In § 80.116 remove paragraph (h).

22. Section 80.141 is amended by revising paragraph (c) to read as follows:

§ 80.141 General provisions for ship stations.

* * * * *

(c) Service requirements for vessels. Each ship station provided for compliance with Part II of Title III of the Communications Act must provide a public correspondence service on voyages of more than 24 hours for any person who requests the service. Compulsory radiotelephone ships must provide this service for at least four hours daily. The hours must be prominently posted at the principal operating location of the station.

* * * * *

23. Section 80.142 is amended by revising paragraph (b) to read as follows:

§ 80.142 Ships using radiotelegraphy.

* * * * *

(b) NB-DP operating procedure. The operation of NB-DP equipment in the maritime mobile service must be in accordance with the operating procedures contained in the latest version of ITU-R Recommendation M.492-6, “Operational Procedures for the use of Direct-Printing Telegraph Equipment in the Maritime Mobile Service,” with Annex, 1995, that does not prevent the use of existing equipment. ITU-R Recommendation M.492-6 with Annex is incorporated by reference. The Director of the Federal Register approves this incorporation by reference in accordance with 5 U.S.C. 552(a) and 1 CFR Part 51. Copies of this standard can be inspected at the Federal Communications Commission, 445 12th Street, SW, Washington, DC (Reference Information Center) or at the Office of the Federal Register, 800 North Capitol Street, NW. Suite 700, Washington, DC. The ITU-R Recommendation can be purchased from the International Telecommunication Union (ITU), Place des Nations, CH-1211 Geneva 20, Switzerland.

* * * * *

24. Section 80.143 is amended by revising paragraph (a) to read as follows:

§ 80.143 Required frequencies for radiotelephony.

(a) Except for compulsory vessels, each ship radiotelephone station licensed to operate in the band 1605-3500 kHz must be able to receive and transmit J3E emission on the frequency 2182 kHz. Ship stations are additionally authorized to receive and transmit H3E emission for communications with foreign coast stations and with vessels of foreign registry. If the station is used for other than safety communications, it must be capable also of receiving and transmitting the J3E emission on at least two other frequencies in that band. However, ship stations which operate exclusively on the Mississippi River and its connecting waterways, and on high frequency bands above 3500 kHz, need be equipped with 2182 kHz and one other frequency within the band 1605-3500 kHz.

* * * * *

§ 80.145 [Removed and Reserved]

25. Remove and reserve § 80.145.

§ 80.146 [Removed and Reserved]

26. Remove and reserve § 80.146.

27. Section 80.147 is revised to read as follows:

§ 80.147 Watch on 2182 kHz.

Ship stations must maintain a watch on 2182 kHz as prescribed by § 80.304.

28. Section 80.148 is amended by removing paragraph (c) and revising the introductory text to read as follows:

§ 80.148 Watch on 156.8 MHz (Channel 16).

Until February 1, 2005, each compulsory vessel, while underway, must maintain a watch for radiotelephone distress calls on 156.800 MHz whenever such station is not being used for exchanging communications. For GMDSS ships, 156.525 MHz is the calling frequency for distress, safety, and general communications using digital selective calling and the watch on 156.800 MHz is provided so that ships not fitted with DSC will be able to call GMDSS ships, thus providing a link between GMDSS and non-GMDSS compliant ships. The watch on 156.800 MHz is not required:

* * * * *

29. Section 80.151 is amended by adding paragraphs (b)(7) and (b)(8) to read as follows:

§ 80.151 Classification of operator licenses and endorsements.

* * * * *

(b) * * *

(7) GOL. GMDSS Radio Operator License (General Operator's Certificate).

(8) ROL. Restricted GMDSS Radio Operator License (Restricted Operator's Certificate).

* * * * *

30. Section 80.159 is amended by redesignating paragraph (d) as paragraph (e) and adding a new paragraph (d) to read as follows:

§ 80.159 Operator requirements of Title III of the Communications Act and the Safety Convention.

* * * * *

(d) Each passenger ship equipped with a GMDSS installation in accordance with subpart W of this part shall carry at least two persons holding an appropriate GMDSS Radio Operator License or, if the passenger ship operates exclusively within twenty nautical miles of shore, at least two persons holding either a GMDSS Radio Operator License or a Restricted GMDSS Radio Operator License, as specified in § 13.7 of this chapter.

* * * * *

31. Section 80.165 is revised to read as follows:

§ 80.165 Operator requirements for voluntary stations.

Minimum Operator License
Ship Morse telegraph | T-2.
Ship direct-printing telegraph | MP.
Ship telephone, with or without DSC, more than 250 watts carrier power or 1,000 watts peak envelope power | G.
Ship telephone, with or without DSC, not more than 250 watts carrier power or 1,000 watts peak envelope power | MP.
Ship telephone, with or without DSC, not more than 100 watts carrier power or 400 watts peak envelope power:
Above 30 MHz | None.¹
Below 30 MHz | RP.
Ship earth station | RP.
¹ RP required for compulsory ships and international voyages.

32. Section 80.179 is amended by revising paragraph (e)(1) to read as follows:

§ 80.179 Unattended operation.

* * * * *

(e) * * *

(1) The equipment must be using DSC in accordance with ITU-R Recommendation M.493-10, “Digital Selective-calling System for Use in the Maritime Mobile Service,” with Annexes 1 and 2, 2000, and ITU-R Recommendation M.541-8, “Operational Procedures for the Use of Digital Selective-Calling Equipment in the Maritime Mobile Service,” with Annexes, 1997, as modified by this section. ITU-R Recommendations M.493-10 with Annexes 1 and 2 and M.541-8 with Annexes are incorporated by reference. The Director of the Federal Register approves this incorporation by reference in accordance with 5 U.S.C. 552(a) and 1 CFR Part 51. Copies of these standards can be inspected at the Federal Communications Commission, 445 12th Street, SW., Washington, DC (Reference Information Center) or at the Office of the Federal Register, 800 North Capitol Street, NW., Suite 700, Washington, DC. The ITU-R Recommendations can be purchased from the International Telecommunication Union (ITU), Place des Nations, CH-1211 Geneva 20, Switzerland.

* * * * *

33. Section 80.203 is amended by removing and reserving paragraph (e), revising paragraph (g), and adding paragraph (o) to read as follows:

* * * * *

§ 80.203 Authorization of transmitters for licensing.

* * * * *

(g) Manufacturers of ship earth station transmitters intended for use in the INMARSAT space segment must comply with the verification procedures given in part 2 of this chapter. Such equipment must be verified in accordance with the technical requirements provided by INMARSAT and must be type approved by INMARSAT for use in the INMARSAT space segment. The ship earth station input/output parameters, the data obtained when the equipment is integrated in system configuration and the pertinent method of test procedures that are used for type approval of the station model which are essential for the compatible operation of that station in the INMARSAT space segment must be disclosed by the manufacturer upon request of the FCC. Witnessing of the type approval tests and the disclosure of the ship earth station equipment design or any other information of a proprietary nature will be at the discretion of the ship earth station manufacturer.

* * * * *

(o) Existing equipment that does not comply with the rules in this subpart but was properly authorized as compliant with the rules in effect at the time of its authorization, and remains compliant with the rules in effect at the time of its authorization, may continue to be installed until February 1, 2003.

34. Section 80.205 is amended by adding an entry to the table in paragraph (a) immediately following the entry J2C and by adding footnote 14 to read as follows:

§ 80.205 Bandwidths.

(a) * * * *

Class of emission | Emission designator | Authorized bandwidth (kHz)
* * * * *
J2D ¹⁴ | 2K80J2D | 3.0
* * * * *
* * * * *
¹⁴ The information is contained in multiple very low level subcarriers.

* * * * *

35. Section 80.207 is amended by revising the table in paragraph (d) to read as follows:

§ 80.207 Classes of emission.

* * * * *

(d) * * * *

Types of stations | Classes of emission
Ship Stations ¹
Radiotelegraphy:
100-160 kHz | A1A.
405-525 kHz | A1A, J2A.
1605-27500 kHz:
Manual ¹⁵ ¹⁶ ¹⁷ | A1A, J2A, J2B, J2D.
DSC ¹⁶ | F1B, J2B.
NB-DP ¹⁴ ¹⁶ | F1B, J2B, J2D.
Facsimile | F1C, F3C, J2C, J3C.
1561-162 MHz ² | F1B, F2B, F2C, F3C, F1D, F2D.
DSC | G2B.
216-220 MHz ³ | F1B, F2B, F2C, F3C, F1D, F2D.
1626.5-1646.5 MHz | (⁴)
Radiotelephony:
1605-27500 kHz ⁵ ¹⁶ | H3E, J2D, J3E, R3E.
27.5-470 MHz ⁶ | G3D, G3E.
1626.5-1646.5 MHz | (⁴)
Radiodetermination:
285-325 kHz ⁷ | A1A, A2A.
405-525 kHz (Direction Finding) ⁸ | A3N, H3N, J3N, N0N.
154-159 MHz: ¹² | A1D, A2D, F1D, F2D, G1D, G2D.
2.4-9.5 GHz | P0N.
14.00-14.05 ghZ | F3N.
Land Stations ¹
Radiotelegraphy:
100-160 kHz | A1A.
405-525 kHz | A1A, J2A.
1605-2805 kHz:
Manual | A1A, J2A.
Facsimile | F1C, F3C, J2C, J3C.
Alaska-Fixed | A1A, J2A.
4000-27500 kHz:
Manual ¹⁶ | A1A, J2A, J2B, J2D.
DSC ¹⁸ | F1B, J2B.
NB-DP ¹⁴ ¹⁸ | F1B, J2B, J2D.
Facsimile | F1C, F3C, J2C, J3C.
Alaska—Fixed ¹⁷ ¹⁸ | A1A, A2A, F1B, F2B, J2B, J2D.
72-76 MHz | A1A, A2A, F1B, F2B.
156-162 MHz ² | F1B, F2B, F2C, F3C, F1D, F2D.
DSC | G2B.
216-220 MHz ³ | F1B, F2B, F2C, F3C, F1D, F2D.
Radiotelephony:
1605-27500 kHz ¹⁸ ¹⁹ | H3E, J2D, J3E, R3E.
72-76 MHz | A3E, F3E, G3E.
156-740 MHz | G3E.
Radiodetermination:
2.4-9.6 GHz | P0N.
Distress, Urgency and Safety ⁸⁹
2182 kHz ¹⁰ ¹¹ | A2B, A3B, H2B, H3E, J2B, J3E.
121.500 MHz | A3E, A3X, N0N.
123.100 MHz | A3E.
156.750 and 156.800 MHz ¹³ | G3E, G3N.
243.000 MHz | A3E, A3X, N0N.
406-406.1 MHz | G1D.
¹ Excludes distress, EPIRBs, survival craft, and automatic link establishment.
² Frequencies used for public correspondence and in Alaska 156.425 MHz. See §§ 80.371(c), 80.373(f) and 80.385(b). Transmitters approved before January 1, 1994, for G3E emissions will be authorized indefinitely for F2C, F3C, F1D and F2D emissions. Transmitters approved on or after January 1, 1994, will be authorized for F2C, F3C, F1D or F2D emissions only if they are approved specifically for each emission designator.
³ Frequencies used in the Automated Maritime Telecommunications System (AMTS). See §80.385(b).
⁴ Types of emission are determined by the INMARSAT Organization.
⁵ Transmitters type accepted prior to December 31, 1969, for emission H3E, J3E, and R3E and an authorized bandwidth of 3.5 kHz may continue to be operated. These transmitters will not be authorized in new installations.
⁶ G3D emission must be used only by one-board stations for maneuvering or navigation.
⁷ Frequencies used for cable repair operations. See §80.375(b).
⁸ For direction finding requirements see § 80.375.
⁹ Includes distress emissions used by ship, coast, EPIRBs and survival craft stations.
¹⁰ On 2182 kHz A1B, A2B, H2B and J2B emissions indicate transmission of the auto alarm signals.
¹¹ Ships on domestic voyages must use J3E emission only.
¹² For frequencies 154.585 MHz, 159.480 MHz, 160.725 MHz, 160.785 MHz, 454.000 MHz and 459.000 MHz, authorized for offshore radiolocation and related telecommand operations.
¹³ Class C EPIRB stations may not be used after February 1, 1999.
¹⁴ NB-DP operations which are not in accordance with ITU-R Recommendation M.625-3, “Direct-Printing Telegraph Equipment Employing Automatic Identification in the Maritime Mobile Service,” with Annex, 1995, or ITU-R Recommendation M.476-5, “Direct-Printing Telegraph Equipment in the Maritime Mobile Service,” with Annex, 1995, are permitted to utilize any modulation, so long as emissions are within the limits set forth in § 80.211(f) of this chapter. ITU-R Recommendations M.476-5 and M.625-3 with Annexes are incorporated by reference. The Director of the Federal Register approves this incorporation by reference in accordance with 5 U.S.C. 552(a) and 1 CFR Part 51. Copies of these standards can be inspected at the Federal Communications Commission, 445 12th Street, SW, Washington, DC (Reference Information Center) or at the Office of the Federal Register, 800 North Capitol Street, NW. Suite 700, Washington, DC. The ITU-R Recommendations can be purchased from the International Telecommunication Union (ITU), Place des Nations, CH-1211 Geneva 20, Switzerland.
¹⁵ J2B is permitted only on 2000-27500 kHz.
¹⁶ J2D is permitted only on 2000-27500 kHz, and ship stations employing J2D emissions shall at no time use a peak envelope power in excess of 1.5 kW per channel.
¹⁷ J2B and J2D are permitted provided they do not cause harmful interference to A1A.
¹⁸ Coast stations employing J2D emissions shall at no time use a peak envelope power in excess of 10 kW per channel.
¹⁹ J2D is permitted only on 2000-27500 kHz.

36. Section 80.209 is amended by revising the table in paragraph (a) to read as follows.

§ 80.209 Transmitter frequency tolerances.

(a) * * *

Frequency bands and categories of stations | Tolerances ¹
(1) Band 100-525 kHz:
(i) Coast stations:
For single sideband emissions | 20 Hz.
For transmitters with narrow-band direct printing and data emissions | 10 Hz ²
For transmitters with digital selective calling emissions | 10 Hz.
For all other emissions | 100.
(ii) Ship stations:
For transmitters with narrow-band direct printing and data emissions | 20 Hz.
For transmitters with digital selective calling emissions | 10 Hz ²
For all other transmitters | 10 Hz.
(iii) Ship stations for emergency only:
For all emissions | 20 Hz.
(iv) Survival craft stations:
For all emissions | 20 Hz.
(v) Radiodetermination stations:
For all emissions | 100.
(2) Band 1600-4000 kHz:
(i) Coast stations and Alaska fixed stations:
For single sideband and facsimile | 20 Hz.
For narrow-band direct printing and data emissions | 10 Hz.²
For transmitters with digital selective calling emissions | 10 Hz.²
For all other emissions | 50 Hz.
(ii) Ship stations:
For transmitters with narrow-band direct printing and data emissions | 10 Hz.²
For transmitters with digital selective calling emissions | 10 Hz.³
For all other transmitters | 20 Hz.
(iii) Survival craft stations: | 20 Hz.
(iv) Radiodetermination stations:
With power 200W or less | 20.
With power above 200W | 10.
(3) Band 4000-27500 kHz:
(i) Coast stations and Alaska fixed stations:
For single sideband and facsimile emissions | 20 Hz.
For narrow-band direct printing and data emissions | 10 Hz.²
For digital selective calling emissions | 10 Hz.
For Morse telegraphy emissions | 10.
For all other emissions | 15 Hz.
(ii) Ship stations:
For transmitters with narrow-band direct printing and data emissions | 10 Hz.²
For transmitters with digital selective calling emissions | 10 Hz.³
For all other transmitters | 20 Hz.
(iii) Survival craft stations: | 50 Hz.
(4) Band 72-76 MHz:
(i) Fixed stations:
Operating in the 72.0-73.0 and 75.4-76.0 MHz bands | 5.
Operating in the 73.74.6 MHz band | 50.
(5) Band 156-162 MHz:
(i) Coast stations:
For carriers licensed to operate with a carrier power:
Below 3 watts | 10.
3 to 100 watts | 5.⁷
(ii) Ship stations | 10.⁴
(iii) Survival craft stations operating on 121.500 MHz | 50.
(iv) EPIRBs:
Operating on 121.500 and 243.000 MHz | 50.
Operating on 156.750 and 156.800 MHz.⁶ | 10.
(6) Band 216-220 MHz:
(i) Coast stations:
For all emissions | 5.
(ii) Ship stations:
For all emissions | 5.
(7) Band 400-466 MHz:
(i) EPIRBs operating on 406-406.1 MHz | 5.
(ii) On-board stations | 5.
(iii) Radiolocation and telecommand stations. | 5.
(8) Band 1626.5-1646.5 MHz:
(i) Ship earth stations | 5.
¹ Transmitters authorized prior to January 2, 1990, with frequency tolerances equal to or better than those required after this date will continue to be authorized in the maritime services provided they retain approval and comply with the applicable standards in this part.
² The frequency tolerance for narrow-band direct printing and data transmitters installed before January 2, 1992, is 15 Hz for coast stations and 20 Hz for ship stations. The frequency tolerance for narrow-band direct printing and data transmitters approved or installed after January 1, 1992, is 10 Hz.
³ [Reserved].
⁴ For transmitters in the radiolocation and associated telecommand service operating on 154.584 MHz, 159.480 MHz, 160.725 MHz and 160.785 MHz the frequency tolerance is 15 parts in 10 ⁶.
⁵ [Reserved].
⁶ Class C EPIRB stations may not be used after February 1, 1999.
⁷ For transmitters operated at private coast stations with antenna heights less than 6 meters (20 feet) above ground and output power of 25 watts or less the frequency tolerance is 10 parts in 10 ⁶.

37. Section 80.213 is amended by revising paragraphs (h), (i) introductory text and (i)(1)(vii) to read as follows:

§ 80.213 Modulation requirements.

* * * * *

(h) Radar transponder coast stations using the 2900-3100 MHz or 9300-9500 MHz band must operate in a variable frequency mode and respond on their operating frequencies with a maximum error equivalent to 100 meters. Additionally, their response must be encoded with a Morse character starting with a dash. The duration of a Morse dot is defined as equal to the width of a space and 1/3 of the width of a Morse dash. The duration of the response code must not exceed 50 microseconds. The sensitivity of the stations must be adjustable so that received signals below −10 dBm at the antenna will not activate the transponder. Antenna polarization must be horizontal when operating in the 9300-9500 MHz band and either horizontal or both horizontal and vertical when operating in the 2900-3100 MHz band. Racons using frequency agile transmitting techniques must include circuitry designed to reduce interference caused by triggering from radar antenna sidelobes.

(i) Variable frequency ship station transponders operating in the 2900-3100 MHz or 9300-9500 MHz band that are not used for search and rescue purposes must meet the following requirements:

(1) * * *

(vii) Antenna polarization must be horizontal when operating in the 9300-9500 MHz band and either horizontal or both horizontal and vertical when operating in the 2900-3100 MHz band.

* * * * *

38. Section 80.215 is amended by revising paragraphs (c)(1), (e)(1) and (g)(1), by removing paragraph (g)(2), redesignating paragraphs (g)(3) through (g)(5) as paragraphs (g)(2) through (g)(4) and revising newly designated paragraphs (g)(2) and (g)(3) to read as follows:

§ 80.215 Transmitter power.

* * * * *

(c) * * *

(1) Coast stations:

156-162 MHz-50W ¹, ², ¹³

216-220 MHz ²

* * * * *

(e) * * *

(1) Ship stations 156-162 MHz—25W ⁶, ¹³

Marine utility stations and hand-held portable transmitters: 156-162 MHz-10W

¹ Maximum authorized power at the input terminals of the station antenna.

² See paragraph (h) of this section.

* * * * *

⁶ Reducible to 1 watt or less, except for transmitters limited to public correspondence channels and used in an automated system.

* * * * *

¹³ The frequencies 156.775 and 156.825 MHz are available for navigation-related port operations or ship movement only, and all precautions must be taken to avoid harmful interference to channel 16. Transmitter output power is limited to 1 watt for ship stations, and 10 watts for coast stations.

(g) * * *

(1) All transmitters and remote control units must be capable of reducing the carrier power to one watt or less;

(2) Except as indicated in paragraph (g)(3) of this section, all transmitters manufactured after January 21, 1987, or in use after January 21, 1997, must automatically reduce the carrier power to one watt or less when the transmitter is tuned to 156.375 MHz or 156.650 MHz, and must be provided with a manual override switch which when held by an operator will permit full carrier power operation on 156.375 MHz and 156.650 MHz;

(3) Hand-held portable transmitters are not required to comply with the automatic reduction of carrier power in paragraph (g)(2) of this section; and

* * * * *

39. Section 80.219 is revised to read as follows:

§ 80.219 Special requirements for narrow-band direct-printing (NB-DP) equipment.

NB-DP and data transmission equipment installed in ship and coast stations before October 1, 1990, that operates on the frequencies in the 4,000-27,500 kHz bands must be capable of operation in accordance with the technical requirements of either ITU-R Recommendation M.476-5, “Direct-Printing Telegraph Equipment in the Maritime Mobile Service,” with Annex, 1995, or ITU-R Recommendation M.625-3, “Direct-Printing Telegraph Equipment Employing Automatic Identification in the Maritime Mobile Service,” with Annex, 1995, and may be used indefinitely. Equipment installed on or after October 1, 1990, must be capable of operation in accordance with the technical requirements of ITU-R Recommendation M.625-3, “Direct-Printing Telegraph Equipment Employing Automatic Identification in the Maritime Mobile Service,” with Annex, 1995. NB-DP and data transmission equipment are additionally permitted to utilize any modulation, so long as emissions are within the limits set forth in § 80.211(f) and the equipment is also capable of operation in accordance with ITU-R Recommendation M.625-3, “Direct-Printing Telegraph Equipment Employing Automatic Identification in the Maritime Mobile Service,” with Annex, 1995. ITU-R Recommendations M. 476-5 and M.625-3 with Annexes are incorporated by reference. The Director of the Federal Register approves this incorporation by reference in accordance with 5 U.S.C. 552(a) and 1 CFR Part 51. Copies of these standards can be inspected at the Federal Communications Commission, 445 12th Street, SW., Washington, DC (Reference Information Center) or at the Office of the Federal Register, 800 North Capitol Street, NW., Suite 700, Washington, DC. The ITU-R Recommendations can be purchased from the International Telecommunication Union (ITU), Place des Nations, CH-1211 Geneva 20, Switzerland.

40. Section 80.223 is revised to read as follows:

§ 80.223 Special requirements for survival craft stations.

(a) Survival craft stations capable of transmitting on:

(1) 2182 kHz must be able to operate with A2B and A3E or H2B and H3E and J2B and J3E emissions;

(2) 121.500 MHz must be able to operate with A3E or A3N emission.

(b) Survival craft stations must be able to receive the frequency and types of emission which the transmitter is capable of using.

(c) Any EPIRB carried as part of a survival craft must comply with the specific technical and performance requirements for its class contained in subpart V of this chapter.

41. Section 80.225 is amended by revising the introductory paragraph and paragraphs (a) and (c)(2) to read as follows:

§ 80.225 Requirements for selective calling equipment.

This section specifies the requirements for voluntary digital selective calling (DSC) equipment and selective calling equipment installed in ship and coast stations, and incorporates by reference ITU-R Recommendation M.476-5, “Direct-Printing Telegraph Equipment in the Maritime Mobile Service,” with Annex, 1995; ITU-R Recommendation M.493-10, “Digital Selective-calling System for Use in the Maritime Mobile Service,” with Annexes 1 and 2, 2000; ITU-R Recommendation M.625-3, “Direct-Printing Telegraph Equipment Employing Automatic Identification in the Maritime Mobile Service,” with Annex, 1995; and RTCM Paper 56-95/SC101-STD, “RTCM Recommended Minimum Standards for Digital Selective Calling (DSC) Equipment Providing Minimum Distress and Safety Capability,” Version 1.0, dated August 10, 1995. ITU-R Recommendations M.476-5 with Annex, M.493-10 with Annexes 1 and 2, and M.625-3 with Annex, and RTCM Paper 56-95/SC101-STD are incorporated by reference. The Director of the Federal Register approves this incorporation by reference in accordance with 5 U.S.C. 552(a) and 1 CFR Part 51. Copies of these standards can be inspected at the Federal Communications Commission, 445 12th Street, SW., Washington, DC (Reference Information Center) or at the Office of the Federal Register, 800 North Capitol Street, NW. Suite 700, Washington, DC. The ITU-R Recommendations can be purchased from the International Telecommunication Union (ITU), Place des Nations, CH-1211 Geneva 20, Switzerland. The RTCM standards can be purchased from the Radio Technical Commission for Maritime Services (RTCM), Suite 600, 1800 Diagonal Road, Alexandria, Virginia 22314-2480.

(a) DSC equipment voluntarily installed in coast or ship stations must meet either the requirements of ITU-R Recommendation M.493-10, “Digital Selective-calling System for Use in the Maritime Mobile Service,” with Annexes 1 and 2, 2000 (including only equipment classes A, B, D, and E) or RTCM Paper 56-95/SC101-STD. DSC equipment must not be used with the sensors referred to in § 80.179(e)(2). DSC equipment used on compulsorily fitted ships must meet the requirements contained in subpart W of this part for GMDSS.

* * * * *

(c) * * *

(2) Equipment used to perform a selective calling function during narrow-band direct-printing (NB-DP) operations in accordance with ITU-R Recommendation M.476-5, “Direct-Printing Telegraph Equipment in the Maritime Mobile Service,” with Annex, 1995, or ITU-R Recommendation M.625-3, “Direct-Printing Telegraph Equipment Employing Automatic Identification in the Maritime Mobile Service,” with Annex, 1995, ITU-R Recommendation M.493-10, “Digital Selective-calling System for Use in the Maritime Mobile Service,” with Annexes 1 and 2, 2000, and

* * * * *

42. Section 80.251 is amended by revising paragraph (a) to read as follows:

§ 80.251 Scope.

(a) This subpart gives the general technical requirements for certification of equipment used on compulsory ships. Such equipment includes automatic-alarm-signal keying devices, survival craft radio equipment, watch receivers, and radar.

* * * * *

§§ 80.253 through 80.267 [Removed]

43. Sections 80.253 through 80.267 are removed.

44. Section 80.269 is amended by revising paragraphs (b)(1) and (b)(2) to read as follows:

§ 80.269 Technical requirements for radiotelephone distress frequency watch receiver.

* * * * *

(b) * * *

(1) The receiver must be capable of being switched to 2182 kHz and of receiving signals of at least A2A and A2B emissions;

(2) The receiver sensitivity must provide a SINAD of 20 dB at the audio output when a 30 microvolt signal with A2A or A2B emission modulated 30% at 400 Hz is applied to the receiver RF terminals;

* * * * *

45. Section 80.273 is revised to read as follows:

§ 80.273 Technical requirements for radar equipment.

(a) Radar installations on board ships that are required by the Safety Convention or the U.S. Coast Guard to be equipped with radar must comply with either the document referenced in paragraph (a)(1) of this section or the applicable document referenced in paragraphs (a)(2) through (4) of this section. These documents contain specifications, standards and general requirements applicable to shipboard radar equipment and shipboard radar installations. For purposes of this part the specifications, standards and general requirements stated in these documents are mandatory irrespective of discretionary language. The standards listed in paragraphs (a)(1), (2), (3), and (4) of this section are incorporated by reference. The Director of the Federal Register approves this incorporation by reference in accordance with 5 U.S.C. 552(a) and 1 CFR Part 51. Copies of these standards can be inspected at the Federal Communications Commission, 445 12th Street, SW., Washington, DC (Reference Information Center) or at the Office of the Federal Register, 800 North Capitol Street, NW. Suite 700, Washington, DC. The standards referenced in paragraphs (a)(1), (2), and (3) of this section can be purchased from the Radio Technical Commission for Maritime Services (RTCM), Suite 600, 1800 Diagonal Road, Alexandria, Virginia 22314-2480; telephone 703-684-4481; fax 703-684-4229; email wtadams@rtcm.org. The standard referenced in section (a)(4) can be purchased from International Maritime Organization (IMO), Publications, 4 Albert Embankment, London SE1 7 SR, United Kingdom; telephone 011 44 71 735 7611.

(1) Radar installed on or after July 1, 1988, on ships of 500 gross tons and upwards that were constructed on or after September 1, 1984, must comply with the provisions of RTCM Paper 133-87-SC 103-33 including Appendix A. Title: “RTCM Recommended Performance Specification for a General Purpose Navigational Radar Set for Oceangoing Ships of 500 Gross Tons and Upwards for New Radar Installations.” Title of Appendix A: “General Purpose Shipborne Navigational Radar Set for Oceangoing Ships Design and Testing Specifications.” Document originally approved by RTCM August 15, 1985 and revised May 15, 1987.

(2) Radar installed on ships of 1,600 gross tons and upwards on or before April 27, 1981, must comply with the provisions of Volume II of RTCM Special Committee No. 65 Final Report; Part II. Title: “Performance Specification for a General Purpose Navigational Radar Set for Oceangoing Ships of 1,600 Tons Gross Tonnage and Upwards for Ships Already Fitted.” Document approved by RTCM July 18, 1978; effective as FCC requirement on April 27, 1981.

(3) Radar installed on ships of 1,600 gross tons and upwards after April 27, 1981 and before July 1, 1988, must comply with the provisions of Volume II of RTCM Special Committee No. 65 Final Report with Change 1 entered; Part I including Appendix A. Title: “Performance Specification for a General Purpose Navigational Radar Set for Oceangoing Ships of 1,600 Tons Gross Tonnage and Upwards for New Radar Installations.” Title of Appendix A: “General Purpose Shipborne Navigational Radar Set for Oceangoing Ships Design and Testing Specifications.” Document approved by RTCM July 18, 1978; effective as FCC requirement on April 27, 1981.

(4) Ships between 500 and 1,600 gross tons constructed on or after September 1, 1984, with radar installed before July 1, 1988, must comply with Regulation 12, Chapter V of the Safety Convention and with the provisions of Inter-Governmental Maritime Consultative Organization (IMCO) [now International Maritime Organization] Resolution A.477 (XII). Title: “Performance Standards for Radar Equipment,” with Annex. Adopted by IMCO November 19, 1981.

(b) For ships of 10,000 gross tons or more and any other ship that is required to be equipped with two radar systems, each of these systems must be capable of operating independently and must comply with the specifications, standards and general requirements established by paragraph (a) of this section. One of the systems must provide a display with an effective diameter of not less than 340 millimeters (13.4 inches), (16 inch cathode ray tube). The other system must provide a display with an effective diameter of not less than 250 millimeters (9.8 inches), (12 inch cathode ray tube).

(c) Recommendations for tools, test equipment, spares and technical manuals are contained in Part IV of Volume III of the RTCM SC-65 Final Report approved by RTCM July 18, 1978.

46. Section 80.302 is amended by revising paragraph (a) to read as follows:

§ 80.302 Notice of discontinuance, reduction, or impairment of service involving a distress watch.

(a) When changes occur in the operation of a public coast station which include discontinuance, reduction or suspension of a watch required to be maintained on 2182 kHz or 156.800 MHz, notification must be made by the licensee to the nearest district office of the U.S. Coast Guard as soon as practicable. The notification must include the estimated or known resumption time of the watch.

* * * * *

§ 80.304 [Amended]

47. Section 80.304 is amended by removing paragraph (a), and redesignating paragraph (b) as the undesignated paragraph.

48. Section 80.305 is amended by revising paragraph (a)(3) to read as follows:

§ 80.305 Watch requirements of the Communications Act and the Safety Convention.

(a) * * *

(3) Until February 1, 2005, keep a continuous and efficient watch on the VHF distress frequency 156.800 MHz from the room from which the vessel is normally steered while in the open sea outside a harbor or port. The watch must be maintained by a designated member of the crew who may perform other duties, relating to the operation or navigation of the vessel, provided such other duties do not interfere with the effectiveness of the watch. Use of a properly adjusted squelch or brief interruptions due to other nearby VHF transmissions are not considered to adversely affect the continuity or efficiency of the required watch on the VHF distress frequency. This watch need not be maintained by vessels subject to the Bridge-to-Bridge Act and participating in a Vessel Traffic Services (VTS) system as required or recommended by the U.S. Coast Guard, when an efficient listening watch is maintained on both the bridge-to-bridge frequency and a separate assigned VTS frequency.

* * * * *

49. Section 80.310 is revised to read as follows:

§ 80.310 Watch required by voluntary vessels.

Voluntary vessels not equipped with DSC must maintain a watch on 156.800 MHz (Channel 16) whenever the vessel is underway and the radio is not being used to communicate. Noncommercial vessels, such as recreational boats, may alternatively maintain a watch on 156.450 MHz (Channel 9) for call and reply purposes. Voluntary vessels equipped with VHF-DSC equipment must maintain a watch on either 156.525 MHz (Channel 70) or VHF Channel 16 aurally whenever the vessel is underway and the radio is not being used to communicate. Voluntary vessels equipped with MF-HF DSC equipment must have the radio turned on and set to an appropriate DSC distress calling channel or one of the radiotelephone distress channels whenever the vessel is underway and the radio is not being used to communicate. Voluntary vessels equipped with Inmarsat A, B, or C systems must have the unit turned on and set to receive calls whenever the vessel is underway and the radio is not being used to communicate.

50. Section 80.313 is amended by revising the table to read as follows:

§ 80.313 Frequencies for use in distress.

* * * * *

Frequency band | Emission | Carrier frequency
1605-3500 kHz | J3E | 2182 kHz.
118-136 MHz | A3E | 121.500 MHz.
156-162 MHz | F3E, PON | 156.800 MHz 156.750 MHz.
243 MHz | A3N | 243.000 MHz.

* * * * *

§ 80.314 [Amended]

51. Section 80.314 is amended by removing paragraph (a), and redesignating paragraphs (b) and (c) as paragraphs (a) and (b).

52. Section 80.315 is amended by removing paragraph (a), redesignating paragraph (b) as paragraph (a), and adding a new paragraph (b) to read as follows:

§ 80.315 Distress calls.

* * * * *

(b) The procedures for canceling false distress alerts are contained in § 80.335.

53. Section 80.316 is amended by removing paragraph (a), redesignating paragraphs (b) and (c) as paragraphs (a) and (b), and adding new paragraph (c) to read as follows:

§ 80.316 Distress messages.

* * * * *

(c) The procedures for canceling false distress alerts are contained in § 80.335.

54. Section 80.320 is amended by redesignating paragraphs (b), (c), (d) and (e) as paragraphs (c), (d), (e) and (f) respectively, and adding a new paragraph (b) to read as follows:

§ 80.320 Radiotelephone distress call and message transmission procedure.

* * * * *

(b) The DSC distress procedure consists of:

(1) Transmission by a mobile unit in distress;

(2) Reception;

(3) Acknowledgement of distress calls;

(4) Distress relays.

* * * * *

55. Add § 80.334 to read as follows:

§ 80.334 False distress alerts.

A distress alert is false if it was transmitted without any indication that a mobile unit or person was in distress and required immediate assistance. Transmitting a false distress alert is prohibited and may be subject to the provisions of part 1, subpart A of this chapter if that alert:

(a) Was transmitted intentionally;

(b) Was not cancelled in accordance with § 80.335;

(c) Could not be verified as a result of either the ship's failure to keep watch on appropriate frequencies in accordance with § 80.1123 or subpart G of this part, or its failure to respond to calls from the U.S. Coast Guard;

(d) Was repeated; or

(e) Was transmitted using a false identity.

56. Add § 80.335 to read as follows:

§ 80.335 Procedures for canceling false distress alerts.

If a distress alert is inadvertently transmitted, the following steps shall be taken to cancel the distress alert.

(a) VHF Digital Selective Calling.

(1) Reset the equipment immediately;

(2) Transmit a DSC distress alert cancellation (i.e., own ship's acknowledgment), if that feature is available;

(3) Set to Channel 16; and

(4) Transmit a broadcast message to “All stations” giving the ship's name, call sign or registration number, and MMSI, and cancel the false distress alert.

(b) MF Digital Selective Calling.

(1) Reset the equipment immediately;

(2) Transmit a DSC distress alert cancellation (i.e., own ship's acknowledgment), if that feature is available;

(3) Tune for radiotelephony transmission on 2182 kHz; and

(4) Transmit a broadcast message to “All stations” giving the ship's name, call sign or registration number, and MMSI, and cancel the false distress alert.

(c) HF Digital Selective Calling;

(1) Reset the equipment immediately;

(2) Transmit a DSC distress alert cancellation (i.e., own ship's acknowledgment), if that feature is available, on each frequency on which the distress alert was transmitted;

(3) Tune for radiotelephony on the distress and safety frequency in each band in which a false distress alert was transmitted; and

(4) Transmit a broadcast message to “All stations” giving the ship's name, call sign or registration number, and MMSI, and cancel the false distress alert frequency in each band in which a false distress alert was transmitted.

(d) INMARSAT ship earth station. Immediately notify the appropriate rescue coordination center that the alert is cancelled by sending a distress priority message by way of the same land earth station through which the false distress alert was sent. Provide ship name, call sign or registration number, and INMARSAT identity with the cancelled alert message.

(e) EPIRB. If for any reason an EPIRB is activated inadvertently, immediately contact the nearest U.S. Coast Guard unit or appropriate rescue coordination center by telephone, radio or ship earth station and cancel the distress alert.

(f) General and other distress alerting systems. Notwithstanding paragraphs (a) through (e) of this section, ships may use additional appropriate means available to them to inform the nearest appropriate U.S. Coast Guard rescue coordination center that a false distress alert has been transmitted and should be cancelled.

§ 80.353 [Removed and Reserved]

57. Section 80.353 is removed and reserved.

58. Section 80.355 is amended by removing paragraph (c)(1), redesignating paragraphs (c)(2) and (c)(3) as (c)(1) and (c)(2), and revising newly designated paragraph (c)(1) and revising paragraph (d)(2) to read as follows:

§ 80.355 Distress, urgency, safety, call and reply Morse code frequencies.

* * * * *

(c) Frequencies in the 2000-27500 kHz band—(1) Ship station frequencies. The following table describes the calling frequencies in the 4000-27500 kHz band which are available for use by authorized ship stations equipped with crystal-controlled oscillators for A1A, J2A, J2B, or J2D radiotelegraphy. There are two series of frequencies for worldwide use and two series of frequencies for each geographic region. Ship stations with synthesized transmitters may operate on every full 100 Hz increment in the 0.5 kHz channel for the frequencies listed, except for 100 Hz above and below those designated for worldwide use. During normal business hours when not communicating on other frequencies, all U.S. coast radiotelegraph stations must monitor the worldwide frequencies and the initial calling frequencies for the region in which it is located. The specific frequencies which must be monitored by a coast station will vary with propagation conditions. The calling frequencies which are routinely monitored by specific coast stations can be determined by reference to the ITU publication entitled “List of Coast Stations.” Initial calls by ship stations must be made on the appropriate initial calling frequency first. Calls on the worldwide frequencies may be made only after calls on the appropriate initial calling frequency are unsuccessful.

Ship Morse Calling Frequencies (kHz)
| ITU |  |  |  |  |  |  | ITU |
Region:
Worldwide | 3 | 4184.0 | 6276.0 | 8368.0 | 12552.0 | 16736.0 | 22280.5 | C | 25172.0
| 4 | 4184.5 | 6276.5 | 8369.0 | 12553.5 | 16738.0 | 22281.0 | C | 25172.0
Atlantic:
Initial | 1 | 4182.0 | 6277.0 | 8366.0 | 12550.0 | 16734.0 | 22279.5 | A | 25171.5
Alternate | 2 | 4182.5 | 6277.5 | 8366.5 | 12550.5 | 16734.5 | 22280.0 | A | 25171.5
Caribbean:
Initial | 1 | 4182.0 | 6277.0 | 8366.0 | 12550.0 | 16734.0 | 22279.5 | A | 25171.5
Alternate | 2 | 4182.5 | 6277.5 | 8366.5 | 12550.5 | 16734.5 | 22280.0 | A | 25171.5
Gulf-Mexico:
Initial | 5 | 4183.0 | 6278.0 | 8367.0 | 12551.0 | 16735.0 | 22281.5 | A | 25171.5
Alternate | 6 | 4183.5 | 6278.5 | 8367.5 | 12551.5 | 16735.5 | 22282.0 | A | 25171.5
N Pacific:
Initial | 7 | 4185.0 | 6279.0 | 8368.5 | 12552.5 | 16736.5 | 22282.5 | B | 25172.5
Alternate | 8 | 4185.5 | 6279.5 | 8369.5 | 12553.0 | 16737.0 | 22283.0 | B | 25172.5
S Pacific:
Initial | 9 | 4186.0 | 6280.0 | 8370.0 | 12554.0 | 16737.5 | 22283.5 | B | 25172.5
Alternate | 10 | 4186.5 | 6280.5 | 8370.5 | 12554.5 | 16738.5 | 22284.0 | B | 25172.5

* * * * *

(d) * * *

(2) EPIRB stations may be assigned 121.500 MHz and 243 MHz using A3E, A3X and NON emission or 406.0-406.1 MHz using G1D emission to aid search and rescue operations. See subpart V of this part.

59. Section 80.357 is amended by revising the section heading, introductory text and the text preceding the table in paragraph (b)(1) to read as follows:

§ 80.357 Working frequencies for Morse code and data transmission.

This section describes the working frequencies assignable to maritime stations for A1A, J2A, J2B (2000-27500 kHz band only), or J2D (2000-27500 kHz band only) radiotelegraphy.

* * * * *

(b) Coast station frequencies—(1) Frequencies in the 100-27500 kHz band. The following table describes the working carrier frequencies in the 100-27500 kHz band which are assignable to coast stations located in the designated geographical areas. The exclusive maritime mobile HF bands listed in the table contained in § 80.363(a)(2) of this chapter are also available for assignment to public coast stations for A1A, J2A, J2B, or J2D radiotelegraphy following coordination with government users.

* * * * *

60. In § 80.359 remove the number “4209.5” and add in its place the number “4209.0” in the table of paragraph (a) and revise paragraph (b) to read as follows:

§ 80.359 Frequencies for digital selective calling (DSC).

* * * * *

(b) Distress and safety calling. The frequencies 2187.5 kHz, 4207.5 kHz, 6312.0 kHz, 8414.5 kHz, 12577.0 kHz, 16804.5 kHz and 156.525 MHz may be used for DSC by coast and ship stations on a simplex basis for distress and safety purposes. The provisions and procedures for distress and safety calling are contained in ITU-R Recommendation M.541-8, “Operational Procedures for the Use of Digital Selective-Calling Equipment in the Maritime Mobile Service,” with Annexes, 1997, as modified by § 80.103(c). ITU-R Recommendation M.541-8 with Annexes is incorporated by reference. The Director of the Federal Register approves this incorporation by reference in accordance with 5 U.S.C. 552(a) and 1 CFR Part 51. Copies of this standard can be inspected at the Federal Communications Commission, 445 12th Street, SW., Washington, DC (Reference Information Center) or at the Office of the Federal Register, 800 North Capitol Street, NW., Suite 700, Washington, DC. The ITU-R Recommendation can be purchased from the International Telecommunication Union (ITU), Place des Nations, CH-1211 Geneva 20, Switzerland.

* * * * *

61. Section 80.361 is amended by removing paragraph (a)(2), redesignating paragraph (a)(1) as paragraph (a) and by revising the text preceding the table in paragraph (b) to read as follows:

§ 80.361 Frequencies for narrow-band direct-printing (NBDP), radioprinter and data transmissions.

* * * * *

(b) The following table describes the frequencies and Channel Series with F1B, J2B, or J2D emission which are assignable to ship stations for NBDP and data transmissions with other ship stations and public coast stations. Public coast stations may receive only on these frequencies.

* * * * *

62. Section 80.363 is amended by revising the table in paragraph (a)(1) to read as follows:

§ 80.363 Frequencies for facsimile.

(a) * * *

(1) * * *

Assignable Ship Frequencies for Facsimile (kHz)
2070.5 | 4154 | 6235 | 8302 | 12370 | 16551 | 18848 | 22182 | 25123
2072.5 | 4170 | 6259 | 8338 | 12418 | 16615 | 18868 | 22238 | 25159
2074.5 |  |  |  |  |  |  |  |
2076.5 |  |  |  |  |  |  |  |

* * * * *

63. Section 80.373 is amended by revising paragraph (c)(2)(ii) to read as follows:

§ 80.373 Private communications frequencies.

* * * * *

(c) * * *

(2) * * *

(ii) The emissions must be J3E or J2D except that when DSC is used the emission must be F1B or J2B; and

* * * * *

64. Section 80.374 is amended by revising the section heading and the introductory text to read as follows:

§ 80.374 Provisions for frequencies in the 4000-4063 and the 8100-8195 kHz bands shared with the fixed service.

Coast station assignments in the 4000-4063 kHz band deviate from international provisions. Coast station assignments in the 4000-4063 kHz band are permitted provided that such stations must not cause interference to, and must accept interference from, stations operated by other countries in accordance with the Radio Regulations.

* * * * *

65. Section 80.375 is amended by revising paragraph (a), removing paragraphs (d)(2)(vii), (d)(3), and (d)(4) and by revising paragraph (e) to read as follows:

§ 80.375 Radiodetermination frequencies.

* * * * *

(a) Direction finding frequencies. The carrier frequencies assignable to ship stations for directional finding operations are:

Carrier Frequency

8364 kHz

121.500 MHz

243.00 MHz

* * * * *

(e) Search and rescue radar transponder stations. The technical standards for search and rescue transponder stations are in subpart W of this part.

66. Section 80.401 is revised to read as follows:

§ 80.401 Station documents requirement.

Licensees of radio stations are required to have current station documents as indicated in the following table:

BILLING CODE 6712-01-P

BILLING CODE 6712-01-C

Notes: 1. The expired station license must be retained in the station records until the first Commission inspection after the expiration date.

2. Alternatively, a list of coast stations maintained by the licensee with which communications are likely to be conducted, showing watch-keeping hours, frequencies and charges, is authorized.

3. Required only if station provides a service to ocean-going vessels.

4. Certification of a Great Lakes Agreement inspection may be made by either a log entry or issuance of a Great Lakes Agreement certificate. Radiotelephone logs containing entries certifying that a Great Lakes Agreement inspection has been conducted must be retained and be available for inspection by the FCC for 2 years after the date of the inspection.

5. The requirements for having the GMDSS Master Plan, NIMA Publication 117, Admiralty List of Radio Signals or IMO Circ. 7 are satisfied by having any one of those four documents.

67. Section 80.405 is amended by revising paragraph (a) to read as follows:

§ 80.405 Station license.

(a) Requirement. Except as provided in § 80.13(c), stations must have an authorization granted by the Federal Communications Commission.

* * * * *

68. Section 80.409 is amended by revising paragraphs (e)(1) through (e)(8) to read as follows:

§ 80.409 Station logs.

* * * * *

(e) * * *

(1) A summary of all distress communications heard, and urgency communications affecting the station's own ship.

(2) A summary of safety communications on other than VHF channels affecting the station's own ship.

(3) An entry that pre-departure equipment checks were satisfactory and that required publications are on hand. Daily entries of satisfactory tests to ensure the continued proper functioning of GMDSS equipment shall be made.

(4) An entry describing any malfunctioning GMDSS equipment and another entry when the equipment is restored to normal operation.

(5) A weekly entry that:

(i) The proper functioning of digital selective calling (DSC) equipment has been verified by actual communications or a test call;

(ii) The batteries or other reserve power sources are functioning properly;

(iii) The portable survival craft radio gear and radar transponders have been tested; and

(iv) The EPIRBs have been inspected.

(6) The time of any inadvertent transmissions of distress, urgency and safety signals including the time and method of cancellation.

(7) At the beginning of each watch, the Officer of the Navigational Watch, or GMDSS Operator on watch, if one is provided, shall ensure that the navigation receiver is functioning properly and is interconnected to all GMDSS alerting devices which do not have integral navigation receivers, including: VHF DSC, MF DSC, satellite EPIRB and HF DSC or INMARSAT SES. On a ship without integral or directly connected navigation receiver input to GMDSS equipment, the Officer of the Navigational Watch, or GMDSS Operator on watch, shall update the embedded position in each equipment. An appropriate log entry of these actions shall be made.

(8) A GMDSS radio log entry shall be made whenever GMDSS equipment is exchanged or replaced (ensuring that ship MMSI identifiers are properly updated in the replacement equipment), when major repairs to GMDSS equipment are accomplished, and when annual GMDSS inspections are conducted.

* * * * *

69. Section 80.415 is amended by revising the section heading and paragraphs (a)(5) and (b) to read as follows:

§ 80.415 Publications.

(a) * * *

(5) List VII A-Alphabetical List of Call Signs of Stations Used by the Maritime Mobile Service, Ship Station Selective Call Numbers or Signals and Coast Station Identification Numbers or Signals. These publications may be purchased from: International Telecommunication Union, General Secretariat-Sales Section, Place des Nations, CH-1211 Geneva 20, Switzerland

(b) The following publications listed in the table contained in § 80.401 are available as follows:

(1) IMO GMDSS Master Plan may be purchased from International Maritime Organization (IMO), Publications, 4 Albert Embankment, London SE1 7 SR, United Kingdom; telephone 011 44 71 735 7611.

(2) U.S. NIMA Publication 117 may be purchased from Superintendent of Documents, P.O. Box 371954, Pittsburgh, PA 15250-7954, telephone 202-512-1800.

(3) The Admiralty List of Radio Signals, Volume 5—Global Maritime Distress and Safety System, may be purchased from UK Hydrographic Office, Admiralty Way, Tauton, Somerset TA1 2DN, United Kingdom, telephone +44 (0)1823 337900 x3333.

70. Section 80.417 is revised to read as follows:

§ 80.417 FCC Rules and Regulations.

The Commission's printed publications are described in subpart C of part 0 of this chapter. These publications may be purchased from the Superintendent of Documents, U.S. Government Printing Office, Washington, DC 20402. The Commission does not furnish copies of these publications but will furnish a price list, Information Services and Publications—Bulletin No. 1, upon request. Requests for copies of this list may be directed to the Consumer Information Bureau, Consumer Information Network Division. Information bulletins and fact sheets containing information about communications issues and the Federal Communications Commission are also available on the Commission's web site at www.fcc.gov or ftp.fcc.gov.

71. Section 80.605 is amended by revising paragraphs (b) and (c) and removing paragraph (d) to read as follows:

* * * * *

§ 80.605 U.S. Coast Guard coordination.

* * * * *

(b) Coast station transponders (i.e., radar beacons, or racons) operating in the band 2900-3100 or 9300-9500 MHz shall meet the requirements of ITU-R Recommendation M.824-2, “Technical Parameters of Radar Beacons (RACONS),” with Annexes, 1995. Applications for certification of these transponders must include a description of the technical characteristics of the equipment including the scheme of interrogation and the characteristics of the transponder response, and test results demonstrating the device meets each applicable requirement of this ITU-R recommendation. ITU-R Recommendation M.824-2 with Annexes is incorporated by reference. The Director of the Federal Register approves this incorporation by reference in accordance with 5 U.S.C. 552(a) and 1 CFR Part 51. Copies of this standard can be inspected at the Federal Communications Commission, 445 12th Street, SW, Washington, DC (Reference Information Center) or at the Office of the Federal Register, 800 North Capitol Street, NW. Suite 700, Washington, DC. The ITU-R Recommendation can be purchased from the International Telecommunication Union (ITU), Place des Nations, CH-1211 Geneva 20, Switzerland.

(c) The use of ship station transponders in the band 2900-3100 or 9300-9500 MHz other than those described in § 80.1065(a)(3) and § 80.1095(b) is prohibited.

§§ 80.801 through 80.806 [Removed]

72. Remove §§ 80.801 through 80.806.

§ 80.807 [Redesignated as § 80.268]

73. Section 80.807 is redesignated as § 80.268.

74. In newly redesignated § 80.268 revise the section heading and paragraphs (a)(5) and (b)(3) to read as follows:

§ 80.268 Technical requirements for radiotelephone installation.

* * * * *

(a) * * *

(5) This transmitter may be contained in the same enclosure as the receiver required by paragraph (b) of this section. These transmitters may have the capability to transmit J2D or J3E transmissions.

(b) * * *

(3) This receiver may be contained in the same enclosure as the transmitter required by paragraph (a) of this section. These receivers may have the capability to receive J2D or J3E transmissions.

* * * * *

§§ 80.808 through 80.817 [Removed]

76. Remove §§ 80.808 through 80.817.

§§ 80.818 through 80.823 [Redesignated as §§ 80.288 through 80.293]

77. Sections 80.818 through 80.823 are redesignated as §§ 80.288 through 80.293, respectively.

§§ 80.824 through 80.836 [Removed]

78. Remove §§ 80.824 through 80.836.

Subpart Q—[Removed and reserved]

79. Remove and reserve subpart Q.

80-81. Section 80.851 is revised to read as follows:

§ 80.851 Applicability.

The radiotelephone requirements of this subpart are applicable to all compulsory ships which are not required to comply with subpart W of this part in total or in part because they have received an exemption from all or some of the subpart W provisions.

§ 80.853 [Amended]

82. Section 80.853 is amended by removing paragraph (e).

§§ 80.856 and 80.857 [Removed]

83. Remove §§ 80.856 and 80.857

§ 80.870 [Removed]

84. Remove § 80.870.

§ 80.879 [Removed]

85. Remove § 80.879.

86. Add new § 80.880 to subpart R to read as follows:

§ 80.880 Vessel radio equipment.

(a) Vessels operated solely within twenty nautical miles of shore must be equipped with a VHF radiotelephone installation as described in this subpart, and maintain a continuous watch on Channel 16.

(b) Vessels operated solely within one hundred nautical miles of shore must be equipped with a medium frequency transmitter capable of transmitting J3E emission and a receiver capable of reception of J3E emission within the band 1710 to 2850 kHz, in addition to the VHF radiotelephone installation required by paragraph (a) of this section, and must maintain a continuous watch on 2182 kHz. Additionally, such vessels must be equipped with either:

(1) A single sideband radiotelephone capable of operating on all distress and safety frequencies in the medium frequency and high frequency bands listed in § 80.369(a) and (b), on all the ship-to-shore calling frequencies in the high frequency bands listed in § 80.369(d), and on at least four of the automated mutual-assistance vessel rescue (AMVER) system HF duplex channels (this requirement may be met by the addition of such frequencies to the radiotelephone installation required by paragraph (b) of this section); or

(2) If operated in an area within the coverage of an INMARSAT maritime mobile geostationary satellite in which continuous alerting is available, an INMARSAT ship earth station meeting the equipment authorization rules of parts 2 and 80 of this chapter.

87. Add § 80.881 to subpart R to read as follows:

§ 80.881 Equipment requirements for ship stations.

Vessels subject to subpart R of this part must be equipped as follows:

(a) A category 1, 406.0-406.1 MHz EPIRB meeting the requirements of § 80.1061;

(b) A NAVTEX receiver meeting the requirements of § 80.1101(c)(1);

(c) A Search and Rescue Transponder meeting the requirements of § 80.1101(c)(6); and

(d) A two-way VHF radiotelephone meeting the requirements of § 80.1101(c)(7).

88. Section 80.905 is amended by revising paragraphs (a)(2), (a)(3)(v), (vi) and (vii), (a)(4)(v) and (ix) and paragraph (d) to read as follows:

§ 80.905 Vessel radio equipment.

(a) * * *

(2) Vessels operated beyond the 20 nautical mile limitation specified in paragraph (a)(1) of this section, but not more than 100 nautical miles from the nearest land, must be equipped with a MF transmitter capable of transmitting J3E emission and a receiver capable of reception of J3E emission within the band 1710 to 2850 kHz, in addition to the VHF radiotelephone installation required by paragraph (a)(1) of this section. The MF transmitter and receiver must be capable of operation on 2670 kHz.

(3) * * *

(v) Be equipped with a NAVTEX receiver conforming to the following performance standards: IMO Resolution A.525(13), “Performance standards for narrow-band direct printing telegraph equipment for the reception of navigational and meteorological warnings and urgent information to ships,” including Annex, adopted November 17, 1983, and ITU-R Recommendation M.540-2, “Operational and Technical Characteristics for an Automated Direct-printing Telegraph System for Promulgation of Navigational and Meteorological Warnings and Urgent Information to Ships,” including Annexes, 1990. IMO Resolution A.525(13), including Annex, and ITU-R Recommendation M.540-2, including Annexes, are incorporated by reference. The Director of the Federal Register approves this incorporation by reference in accordance with 5 U.S.C. 552(a) and 1 CFR Part 51. Copies of these standards can be inspected at the Federal Communications Commission, 445 12th Street, SW, Washington, DC (Reference Information Center) or at the Office of the Federal Register, 800 North Capitol Street, NW., Suite 700, Washington, DC. IMO Resolution A.525(13) can be purchased from Publications, International Maritime Organization, 4 Albert Embankment, London SE1 7SR, United Kingdom. ITU-R Recommendation M.540-2, including Annexes, can be purchased from the International Telecommunication Union (ITU), Place des Nations, CH-1211 Geneva 20, Switzerland;

(vi) Be equipped with a Category I 406.0-406.1 MHz satellite emergency position-indicating radiobeacon (EPIRB) meeting the requirements of § 80.1061; and

(vii) Participate in the AMVER system while engaged on any voyage where the vessel is navigated in the open sea for more than 24 hours. Copies of the AMVER Bulletin are available at: AMVER Maritime Relations, USCG Battery Park Building, Room 201, New York, NY 10004-1499. Phone 212-668-7764; Fax 212-668-7684.

(4) * * *

(v) Be equipped with a NAVTEX receiver conforming to the following performance standards: IMO Resolution A.525(13), “Performance standards for narrow-band direct printing telegraph equipment for the reception of navigational and meteorological warnings and urgent information to ships,” 1994, and ITU-R Recommendation M.540-2, “Operational and Technical Characteristics for an Automated Direct-printing Telegraph System for Promulgation of Navigational and Meteorological Warnings and Urgent Information to Ships,” including Annexes, 1990. IMO Resolution A.525(13) and ITU-R Recommendation M.540-2, including Annexes, are incorporated by reference. The Director of the Federal Register approves this incorporation by reference in accordance with 5 U.S.C. 552(a) and 1 CFR Part 51. Copies of these standards can be inspected at the Federal Communications Commission, 445 12th Street, SW, Washington, DC (Reference Information Center) or at the Office of the Federal Register, 800 North Capitol Street, NW., Suite 700, Washington, DC. IMO Resolution A.525(13) can be purchased from Publications, International Maritime Organization, 4 Albert Embankment, London SE1 7SR, United Kingdom. ITU-R Recommendation M.540-2, including Annexes, can be purchased from the International Telecommunication Union (ITU), Place des Nations, CH-1211 Geneva 20, Switzerland;

* * * * *

(ix) Participate in the AMVER system while engaged on any voyage where the vessel is navigated in the open sea for more than 24 hours. Copies of the AMVER Bulletin are available at: AMVER Maritime Relations, USCG Battery Park Building, Room 201, New York, NY 10004-1499. Phone 212-668-7764; Fax 212-668-7684.

* * * * *

(d) A VHF-DSC radiotelephone installation or a remote unit must be located at each steering station except those auxiliary steering stations which are used only during brief periods for docking or for close-in maneuvering. A single portable VHF-DSC radiotelephone set meets the requirements of this paragraph if adequate permanent mounting arrangements with suitable power provision and antenna feed are installed at each operator steering station. Additionally, for vessels of more than 100 gross tons, the radiotelephone installation must be located at the level of the main wheelhouse or at least one deck above the vessel's main deck.

89. Section 80.909 is amended by revising paragraph (b) to read as follows:

§ 80.909 Radiotelephone transmitter.

* * * * *

(b) The single sideband radiotelephone must be capable of operating on maritime frequencies in the band 1710 to 27500 kHz with a peak envelope output power of at least 120 watts for J3E emission on 2182 kHz and J3E emission on the distress and safety frequencies listed in § 80.369(b).

* * * * *

90. Section 80.933 is amended by revising paragraphs (c) introductory text and (c)(2)(i) to read as follows:

§ 80.933 General small passenger vessel exemptions.

* * * * *

(c) U.S. passenger vessels of less than 100 gross tons operated on domestic or international voyages are exempt from the radiotelegraph requirements of Part II of Title III of the Communications Act and the MF radiotelephone requirements of this subpart until one year after the Coast Guard notifies the Commission that shore-based Sea Area A1 coverage is established, if the following criteria are fully met:

* * * * *

(2) * * *

(i) A Category 1, 406.0-406.1 MHz EPIRB meeting the requirements of § 80.1061;

* * * * *

91. Section 80.1051 is revised to read as follows:

§ 80.1051 Scope.

This subpart describes the technical and performance requirements for Classes A, B, and S, and Categories 1, 2, and 3 EPIRB stations.

92. Section 80.1053 is revised to read as follows:

§ 80.1053 Special requirements for Class A EPIRB stations.

Class A EPIRBs shall not be manufactured, imported, or sold in the United States on or after February 1, 2003. Operation of Class A EPIRB stations shall be prohibited after December 31, 2006. New Class A EPIRBs will no longer be certified by the Commission. Existing Class A EPIRBs must be operated as certified.

93. Section 80.1055 is revised to read as follows:

§ 80.1055 Special requirements for Class B EPIRB stations.

Class B EPIRBs shall not be manufactured, imported, or sold in the United States on or after February 1, 2003. Operation of Class B EPIRB stations shall be prohibited after December 31, 2006. New Class B EPIRBs will no longer be certified by the Commission. Existing Class B EPIRBs must be operated as certified.

§ 80.1057 [Removed and reserved]

94. Section 80.1057 is removed and reserved.

95. Section 80.1059 is revised to read as follows:

§ 80.1059 Special requirements for Class S EPIRB stations.

Class S EPIRBs shall not be manufactured, imported, or sold in the United States on or after February 1, 2003. Operation of Class S EPIRB stations shall be prohibited after December 31, 2006. New Class S EPIRBs will no longer be certified by the Commission. Existing Class S EPIRBs must be operated as certified.

96. Section 80.1061 is revised to read as follows:

§ 80.1061 Special requirements for 406.0-406.1 MHz EPIRB stations.

(a) Notwithstanding the provisions in paragraph (b) of this section, 406.0-406.1 MHz EPIRBs must meet all the technical and performance standards contained in the Radio Technical Commission for Maritime Services document entitled RTCM Paper 77-02/SC110-STD, “RTCM Recommended Standards for 406 MHz Satellite Emergency Position-Indicating Radiobeacons (EPIRBs),” Version 2.1, dated June 20, 2002 (RTCM Recommended Standards). The RTCM Recommended Standards are incorporated by reference. The Director of the Federal Register approves this incorporation by reference in accordance with 5 U.S.C. 552(a) and 1 CFR Part 51. Copies of the RTCM Recommended Standards can be inspected at the Federal Communications Commission, 445 12th Street, SW, Washington, DC (Reference Information Center) or at the Office of the Federal Register, 800 North Capitol Street, NW., Suite 700, Washington, DC. The RTCM Recommended Standards can be purchased from the Radio Technical Commission for Maritime Services, 1800 Diagonal Road, Suite 600, Alexandria, VA 22314. Phone 703-684-4481; Fax 703-684-4229; email wtadams@rtcm.org.

(b) The 406.0-406.1 EPIRB must contain as an integral part a “homing” beacon operating only on 121.500 MHz that meets all the requirements described in the RTCM Recommended Standards document described in paragraph (a) of this section. The 121.500 MHz “homing” beacon must have a continuous duty cycle that may be interrupted during the transmission of the 406.0-406.1 MHz signal only. Additionally, at least 30 percent of the total power emitted during any transmission cycle must be contained within plus or minus 30 Hz of the carrier frequency.

(c) Prior to submitting a certification application for a 406.0-406.1 MHz radiobeacon, the radiobeacon must be certified by a test facility recognized by one of the COSPAS/SARSAT Partners that the equipment satisfies the design characteristics associated with the measurement methods described in Appendix B of the RTCM Recommended Standards. Additionally, the radiobeacon must be certified by a test facility recognized by the U.S. Coast Guard to certify that the equipment complies with the U.S. Coast Guard environmental and operational requirements associated with the test procedures described in Appendix A of the RTCM Recommended Standards. Information regarding the recognized test facilities may be obtained from Commandant (G-MSE), U.S. Coast Guard, 2100 2nd Street SW, Washington, DC 20593-0001.

(1) After a 406.0-406.1 MHz EPIRB has been certified by the recognized test facilities the following information must be submitted in duplicate to the Commandant (G-MSE), U.S. Coast Guard, 2100 2nd Street SW, Washington, DC 20593-0001:

(i) The name of the manufacturer or grantee and model number of the EPIRB;

(ii) Copies of the certificate and test data obtained from the test facility recognized by a COPAS/SARSAT Partner showing that the radiobeacon complies with the COSPAS/SARSAT design characteristics associated with the measurement methods described in Appendix B of the RTCM Recommended Standards;

(iii) Copies of the test report and test data obtained from the test facility recognized by the U.S. Coast Guard showing that the radiobeacon complies with the U.S. Coast Guard environmental and operational characteristics associated with the measurement methods described in Appendix A of the RTCM Recommended Standards; and

(iv) Instruction manuals associated with the radiobeacon, description of the test characteristics of the radiobeacon including assembly drawings, electrical schematics, description of parts list, specifications of materials and the manufacturer's quality assurance program.

(2) After reviewing the information described in paragraph (c)(1) of this section the U.S. Coast Guard will issue a letter stating whether the radiobeacon satisfies all RTCM Recommended Standards.

(d) A certification application for a 406.0-406.1 MHz EPIRB submitted to the Commission must also contain a copy of the U.S. Coast Guard letter that states the radiobeacon satisfies all RTCM Recommended Standards, a copy of the technical test data, and the instruction manual(s).

(e) An identification code, issued by the National Oceanic and Atmospheric Administration (NOAA), the United States Program Manager for the 406.0-406.1 MHz COSPAS/SARSAT satellite system, must be programmed in each EPIRB unit to establish a unique identification for each EPIRB station. With each marketable EPIRB unit the manufacturer or grantee must include a postage pre-paid registration card printed with the EPIRB identification code addressed to: NOAA/NESDIS, SARSAT Operations Division, E/SP3, Federal Building 4, Washington, DC 20233. The registration card must request the owner's name, address, telephone number, type of ship, alternate emergency contact and include the following statement: “WARNING—failure to register this EPIRB with NOAA before installation could result in a monetary forfeiture being issued to the owner.”

(f) To enhance protection of life and property it is mandatory that each 406.0-406.1 MHz EPIRB be registered with NOAA before installation and that information be kept up-to-date. Therefore, in addition to the identification plate or label requirements contained in §§ 2.925, 2.926 and 2.1003 of this chapter, each 406.0-406.1 MHz EPIRB must be provided on the outside with a clearly discernible permanent plate or label containing the following statement: “The owner of this 406.0-406.1 MHz EPIRB must register the NOAA identification code contained on this label with the National Oceanic and Atmospheric Administration (NOAA) whose address is: NOAA, NOAA/SARSAT Operations Division, E/SP3, Federal Building 4, Washington, DC 20233.” Vessel owners shall advise NOAA in writing upon change of vessel or EPIRB ownership, transfer of EPIRB to another vessel, or any other change in registration information. NOAA will provide registrants with proof of registration and change of registration postcards.

(g) For 406.0-406.1 MHz EPIRBs whose identification code can be changed after manufacture, the identification code shown on the plate or label must be easily replaceable using commonly available tools.

97. Section 80.1071 is amended by revising paragraph (b)(2), removing paragraph (b)(3), and adding paragraph (c) to read as follows:

§ 80.1071 Exemptions.

* * * * *

(b) * * *

(2) In exceptional circumstances, for a single voyage outside the sea area or sea areas for which the ship is equipped.

(c) All fishing vessels of 300 gross tons and upward are exempt from subpart W requirements applicable for carriage of VHF-DSC and MF-DSC equipment until one year after the USCG establishes GMDSS coast facilities for Sea Areas A1 and A2, if the following provisions are met:

(1) The ship is equipped with:

(i) A VHF radiotelephone installation meeting the requirements of § 80.1101(c)(2).

(ii) A MF or HF radiotelephone installation meeting the requirements of § 80.1101(c)(3) and (4).

(iii) A Category 1, 406.0-406.1 MHz EPIRB meeting the requirements of § 80.1061;

(iv) A NAVTEX receiver meeting the requirements of § 80.1101(c)(1);

(v) Survival craft equipment meeting the requirements of § 80.1095;

(vi) A Search and Rescue Transponder meeting the requirements of § 80.1101(c)(6); and

(2) The ship remains within coverage of a VHF coast station and maintains a continuous watch on VHF Channel 16; or

(3) The vessel remains within coverage of an MF coast station and maintains a continuous watch on 2182 kHz and VHF Channel 16.

98. Section 80.1073 is amended by revising paragraphs (a)(1), (a)(2), and (b)(6) to read as follows:

§ 80.1073 Radio operator requirements for ship stations.

(a) * * *

(1) A qualified GMDSS radio operator must be designated to have primary responsibility for radiocommunications during distress incidents, except if the vessel operates exclusively within twenty nautical miles of shore, in which case a qualified restricted radio operator may be so designated.

(2) A second qualified GMDSS radio operator must be designated as backup for distress and safety radiocommunications, except if the vessel operates exclusively within twenty nautical miles of shore, in which case a qualified restricted GMDSS radio operator may be so designated.

(b) * * *

(6) Responsible for ensuring that the ship's navigation position is entered into all installed DSC equipment, either automatically through a connected or integral navigation receiver, or manually at least every four hours when the ship is underway.

99. Section 80.1074 is amended by revising paragraph (b)(2) and removing paragraph (b)(3) to read as follows:

§ 80.1074 Radio maintenance personnel for at-sea maintenance.

* * * * *

(b) * * *

(2) GB: GMDSS Operator's/Maintainer's License.

* * * * *

100. Section 80.1077 is revised to read as follows:

§ 80.1077 Frequencies.

The following table describes the frequencies used in the Global Maritime Distress and Safety System:

Alerting:
406.0-406.1 EPIRBs | 406.0-406.1 MHz (Earth-to-space). 1544-1545 HHz (space-to-Earth).
INMARSAT Ship Earth Stations capable of voice and/or direct printing | 1626.5-1645.5 MHz (Earth-to-space).
VHF DSC Ch. 70 | 156.525 MHz ¹.
MF/HF DSC ² ¹¹ | 2187.5 kHz ³, 4207.5 kHz, 6312 kHz, 8414.5 kHz, 12577 kHz, and 16804.5 kHz.
On-scene communications:
VHF Ch. 16 | 156.8 MHz.
MF Radiotelephony | 2182 kHz.
NBDP | 2174.5 kHz.
Communications involving aircraft:
On-scene, including search and rescue | 156.8 MHz⁴, 121.5 MHz⁵, 123.1 MHz 156.3 MHz, 2182 kHz, 3023 kHz, 4125 kHz, and 5680 kHz⁶.
Locating signals:
406-406.1 EPIRB Beacons | 121.5 MHz.
9 GHz radar transponders | 9200-9500 MHz.
Maritime safety information (MSI):
International NAVTEX | 518 kHz⁷
Warnings | 490 kHz, 4209.5 kHz.
NBDP | 4210 kHz, 6314 kHz, 8416.5 kHz, 12579 kHz, 16806.5 kHz, 19680.5 kHz, 22376 kHz, 26100.5 kHz.
Satellite | 1530-1545 MHz ¹⁰.
General distress and safety communications and calling:
Satellite | 1530-1544 MHz (space-to-Earth) and 1626.5-1645.5 MHz (Earth-to-space) ¹⁰.
Radiotelephony | 2182 kHz, 4125 kHz, 6215 kHz, 8291 kHz, 12290 kHz, 16420 kHz, and 156.8 MHz.
NBDP | 2174.5 kHz, 4177.5 kHz, 6268 kHz, 8376.5 kHz, 12520 kHz, and 16695 kHz.
DSC | 2187.5 kHz, 4207.5 kHz, 6312 kHz, 8414.5 kHz, 12577 kHz, 16804.5 kHz, and 156.525 MHz.
Survival craft:
VHF radiotelephony | 156.8 MHz and one other 156-174 MHz frequency.
9 GHz radar transponders | 9200-9500 MHz.
¹ Frequency 156.525 MHz can be used for ship-to-ship alerting and, if within sea area A1, for ship-to-shore alerting.
² For ships equipped with MF/HF equipment, there is a watch requirement on 2187.5 kHz, 8414.5 kHz, and one other frequency.
³ Frequency 2187.5 kHz can be used for ship-to-ship alerting and, if within sea areas A2, for ship-to-shore alerting.
⁴ Frequency 156.8 MHz may also be used by aircraft for safety purposes only.
⁵ Frequency 121.5 MHz may be used by ships for aeronautical distress and urgency purposes.
⁶ The priority of use for ship-aircraft communications is 4125 kHz, then 3023 kHz. Additionally, frequencies 123.1 MHz, 3023 kHz and 5680 kHz can be used by land stations engaged in coordinated search and rescue operations.
⁷ The international NAVTEX frequency 518 kHz is the primary frequency for receiving maritime safety information. The other frequencies are used only to augment the coverage or information provided on 518 kHz.
⁸ [Reserved.]
⁹ [Reserved].
¹⁰ In addition to EPIRBs, 1544-1545 MHz can be used for narrowband distress and safety operations and 1645.5-1646.5 MHz can be used for relay of distress alerts between satellites. Feeder links for satellite communications are assigned from the fixed satellite service, see 47 CFR § 2.106.
¹¹ Routine calling is not permitted on MF and HF DSC frequencies.

* * * * *

101. Section 80.1083 is amended by adding paragraph (d) to read as follows:

§ 80.1083 Ship radio installations.

* * * * *

(d) A Shipborne Integrated Radiocommunication System (IRCS) may be utilized to integrate all GMDSS equipment into a standard operator's console. Such installation must be type accepted in accordance with § 80.1103 and meet the requirements of IMO Assembly Resolution A.811(19), “Performance Standards for a Shipborne Integrated Radiocommunication System (IRCS) When Used in the GMDSS,” with Annex, adopted 23 November 1995. IMO Assembly Resolution A.811(19) with Annex is incorporated by reference. The Director of the Federal Register approves this incorporation by reference in accordance with 5 U.S.C. 552(a) and 1 CFR Part 51. Copies of this standard can be inspected at the Federal Communications Commission, 445 12th Street, SW., Washington, DC (Reference Information Center) or at the Office of the Federal Register, 800 North Capitol Street, NW. Suite 700, Washington, DC. The IMO standards can be purchased from Publications, International Maritime Organization, 4 Albert Embankment, London SE1 7SR, United Kingdom.

* * * * *

102. Section 80.1085 is amended by revising paragraph (a)(6)(i), add paragraph (a)(6)(iii), remove paragraphs (b) and (c), redesignate paragraph (d) as paragraph (b), add a new paragraph (c), and revise newly redesignated paragraph (b) to read as follows:

§ 80.1085 Ship radio equipment—General.

(a) * * *

(6) A satellite emergency position-indicating radio beacon (satellite EPIRB) which must be:

(i) Capable of transmitting a distress alert through the polar orbiting satellite service operating in the 406.0-406.1 MHz band (406.0-406.1 MHz EPIRB); and

* * * * *

(iii) Examined and tested annually in accordance with IMO Circular MSC/Circ.882, Guidelines on annual testing of 406 MHz satellite EPIRBs. See § 80.1105(k).

* * * * *

(b) Ships must carry either the most recent edition of the IMO publication entitled GMDSS Master Plan of Shore-Based Facilities, the U.S. NIMA Publication 117, or the Admiralty List of Radio Signals Volume 5 Global Maritime Distress and Safety System. Notice of new editions will be published on the Commission's Wireless Telecommunications Bureau web page under “Marine Services” and information will be provided about obtaining the new document.

(c) All GMDSS equipment capable of transmitting an automatic distress alert which includes position of the ship must have either an integral navigation receiver or capability of being connected to an external navigation receiver. If an external navigation receiver is installed, it shall be connected to all of the alerting devices referred to in paragraph (a) of this section. If there is no navigation receiver, the position must be entered manually for each alerting device at least once every 4 hours (at the change of the navigation watch).

103. Section 80.1087 is amended by revising paragraph (a)(2) to read as follows:

§ 80.1087 Ship radio equipment—Sea area A1.

* * * * *

(a) * * *

(2) Through the polar orbiting satellite service on 406.0-406.1 MHz (this requirement may be fulfilled by the 406.0-406.1 MHz EPIRB, required by § 80.1085(a)(6), either by installing the 406.0-406.1 MHz EPIRB close to, or by allowing remote activation from, the position from which the ship is normally navigated); or

* * * * *

104. Section 80.1089 is amended by revising paragraph (a)(3)(i) to read as follows:

§ 80.1089 Ship radio equipment—Sea areas A1 and A2.

* * * * *

(a) * * *

(3) * * *

(i) Through the polar orbiting satellite service on 406.0-406.1 MHz (this requirement may be fulfilled by the 406.0-406.1 MHz EPIRB required by § 80.1085(a)(6), either by installing the 406.0-406.1 MHz EPIRB close to, or by allowing remote activation from, the position from which the ship is normally navigated); or

* * * * *

105. Section 80.1091 is amended by revising paragraph (a)(4)(i), adding a note at the end of paragraph (a)(4)(iii), and revising paragraph (b)(3)(i) to read as follows:

§ 80.1091 Ship radio equipment—Sea areas A1, A2, and A3.

* * * * *

(a) * * *

(4) * * *

(i) Through the polar orbiting satellite service on 406.0-406.1 MHz (this requirement may be fulfilled by the 406.0-406.1 MHz EPIRB required by § 80.1085(a)(6), either by installing the 406.0-406.1 MHz EPIRB close to, or by allowing remote activation from, the position from which the ship is normally navigated); or

* * * * *

(iii) * * *

Note to paragraph (a)(4)(iii). For ships subject to this subpart, sailing only in domestic waters, alternative satellite system fitting may be considered. However, the satellite system fitted must comply with all features of the INMARSAT system for its intended function. These are shown in IMO Assembly Resolution A.801(19) Appendix 13, Annex 5, “Criteria for Use When Providing Inmarsat Shore-Based Facilities for Use in the GMDSS,” adopted 23 November 1995, and in IMO Assembly Resolution A.888(21), “Criteria for the Provision of Mobile Satellite Communication Systems in the Global Maritime Distress and Safety System (GMDSS),” with Annex, adopted 25 November 1999. In any case, the alternative satellite system must provide continuous coverage for all sea areas in which the ship intends to sail. IMO Assembly Resolution A.801(19) Appendix 13, Annex 5, and IMO Assembly Resolution A.888(21) with Annex are incorporated by reference. The Director of the Federal Register approves this incorporation by reference in accordance with 5 U.S.C. 552(a) and 1 CFR Part 51. Copies of these standards can be inspected at the Federal Communications Commission, 445 12th Street, SW, Washington, DC (Reference Information Center) or at the Office of the Federal Register, 800 North Capitol Street, NW., Suite 700, Washington, DC. The IMO standards can be purchased from Publications, International Maritime Organization, 4 Albert Embankment, London SE1 7SR, United Kingdom.

(b) * * *

(3) * * *

(i) Through the polar orbiting satellite service on 406.0-406.1 MHz (this requirement may be fulfilled by the 406.0-406.1 MHz EPIRB required by § 80.1085(a)(6), either by installing the 406.0-406.1 MHz EPIRB close to, or by allowing remote activation from, the position from which the ship is normally navigated); or

* * * * *

106. Section 80.1099 is amended by revising paragraphs (f)(2) and (h) to read as follows:

§ 80.1099 Ship sources of energy.

* * * * *

(f) * * *

(2) Battery charge levels should be checked at intervals of 30 days or less with equipment turned ON and the battery charger turned OFF. Portable equipment with primary batteries such as EPIRBs and SARTs should be checked at the same intervals using methods recommended by the manufacturer. The results of battery checks should be recorded in the radio log.

* * * * *

(h) If an uninterrupted input of information from the ship's navigational or other equipment to a radio installation required by this subpart (including the navigational receiver referred to in SOLAS Chapter IV, Regulation 18) is needed to ensure its proper performance, means must be provided to ensure the continuous supply of such information in the event of failure of the ship's main or emergency source of electrical power.

* * * * *

107. Section 80.1101 is revised to read as follows:

§ 80.1101 Performance standards.

(a) The abbreviations used in this section are as follows:

(1) International Maritime Organization (IMO).

(2) International Telecommunication Union—Telecommunication Standardization Bureau (ITU-T) (Standards formerly designated as CCITT are now designated as ITU-T.)

(3) International Electrotechnical Commission (IEC).

(4) International Organization for Standardization (ISO).

(5) International Telecommunication Union—Radiocommunication Bureau (ITU-R) (Standards formerly designated as CCIR are now designated as ITU-R.)

(b) All equipment specified in this subpart must meet the general requirements for shipboard equipment in conformity with performance specifications listed in this paragraph, which are incorporated by reference.

(1) IMO Resolution A.694(17), “General Requirements for Shipborne Radio Equipment Forming Part of the Global Maritime Distress and Safety System (GMDSS) and for Electronic Navigational Aids,” adopted 6 November 1991.

(2) ITU-T Recommendation E.161, “Arrangement of Digits, Letters and Symbols on Telephones and Other Devices that Can Be Used for Gaining Access to a Telephone Network,” 1993.

(3) ITU-T Recommendation E.164.1, “Series E: Overall Network Operation, Telephone Service, Service Operation and Human Factors; Operation, Numbering, Routing and Mobile Services—International Operation—Numbering Plan of the International Telephone Service: Criteria and Procedures for the Reservation, Assignment, and Reclamation of E.164 Country Codes and Associated Identification Codes (ICs),” March 1998.

(4) IEC Publication 92-101, “Electrical Installations in Ships,” Third Edition 1980 with amendments through 1984.

(5) IEC Publication 533, “Electromagnetic Compatibility of Electrical and Electronic Installations in Ships,” First Edition 1977.

(6) IEC Publication 60945, “Maritime navigation and radiocommunication equipment and systems—General requirements—Methods of testing and required test results,” Edition 4.0, with Annexes, August 2002.

(7) ISO Standard 3791, “Office Machines and Data Processing Equipment—Keyboard Layouts for Numeric Applications,” First Edition 1976(E).

(c) The equipment specified in this subpart must also conform to the appropriate performance standards listed in paragraphs (c)(1) through (10) of this section, which are incorporated by reference, and must be tested in accordance with the applicable IEC testing standards listed in paragraph (c)(11) of this section, and are also incorporated by reference.

(1) NAVTEX receivers: (i) IMO Resolution A.525(13), “Performance Standards for Narrow-band Direct Printing Telegraph Equipment for the Reception of Navigational and Meteorological Warnings and Urgent Information to Ships,” including Annex, adopted 17 November 1983.

(ii) ITU-R Recommendation M.540-2, “Operational and Technical Characteristics for an Automated Direct-printing Telegraph System for Promulgation of Navigational and Meteorological Warnings and Urgent Information to Ships,” including Annexes, 1990.

(2) VHF radio equipment: (i) IMO Resolution A.803(19), “Performance Standards for Shipborne VHF Radio Installations Capable of Voice Communication and Digital Selective Calling,” with Annex, adopted 23 November 1995, as amended by IMO Resolution MSC.68(68), “Adoption of Amendments to Performance Standards for Shipborne Radiocommunication Equipment,” GMDSS terrestrial communications—1.1(c), adopted 6 June 1997.

(ii) ITU-R Recommendation M.493-10, “Digital Selective-calling System for Use in the Maritime Mobile Service,” with Annexes 1 and 2, 2000, and ITU-R Recommendation M.541-8, “Operational Procedures for the Use of Digital Selective-Calling Equipment in the Maritime Mobile Service,” with Annexes, 1997.

(3) MF radio equipment: (i) IMO Resolution 804(19), “Performance Standards for Shipborne MF Radio Installations Capable of Voice Communication and Digital Selective Calling,” with Annex, adopted 23 November 1995, as amended by IMO Resolution MSC.68(68), “Adoption of Amendments to Performance Standards for Shipborne Radiocommunication Equipment,” GMDSS terrestrial communications—1.2(c), adopted 6 June 1997.

(ii) ITU-R Recommendation M.493-10, “Digital Selective-calling System for Use in the Maritime Mobile Service,” with Annexes 1 and 2, 2000, and ITU-R Recommendation M.541-8, “Operational Procedures for the Use of Digital Selective-Calling Equipment in the Maritime Mobile Service,” with Annexes, 1997.

(4) MF/HF radio equipment: (i) IMO Resolution A.806(19), “Performance Standards for Shipborne MF/HF Radio Installations Capable of Voice Communication, Narrow-Band Direct Printing and Digital Selective Calling,” with Annex, adopted 23 November 1995, as amended by IMO Resolution MSC.68(68), “Adoption of Amendments to Performance Standards for Shipborne Radiocommunication Equipment,” GMDSS terrestrial communications—1.3(c), adopted 6 June 1997.

(ii) ITU-R Recommendation M.493-10, “Digital Selective-calling System for Use in the Maritime Mobile Service,” with Annexes 1 and 2, 2000, and ITU-R Recommendation M.541-8, “Operational Procedures for the Use of Digital Selective-Calling Equipment in the Maritime Mobile Service,” with Annexes, 1997.

(iii) ITU-R Recommendation M.625-3, “Direct-Printing Telegraph Equipment Employing Automatic Identification in the Maritime Mobile Service,” with Annex, 1995, ITU-R Recommendation M.493-10, “Digital Selective-calling System for Use in the Maritime Mobile Service,” with Annexes 1 and 2, 2000. Equipment may conform to ITU-R Recommendation M.476-5, “Direct-Printing Telegraph Equipment in the Maritime Mobile Service,” with Annex, 1995, in lieu of ITU-R Recommendation M.625-3 with Annex, 1995, where such equipment was installed on ships prior to February 1, 1993.

(iv) IMO Resolution A.700(17), “Performance Standards for Narrow-band Direct-printing Telegraph Equipment for the Reception of Navigational and Meteorological Warnings and Urgent Information to Ships (MSI) by HF,” adopted 6 November 1991.

(5) 406.0-406.1 MHz EPIRBs: (i) IMO Resolution A.810(19), “Performance Standards for Float-free Satellite Emergency Position-indicating Radio Beacons (EPIRBs) Operating on 406 MHz,” with Annex, adopted 23 November 1995, and IMO Resolution A.812(19), “Performance Standards for Float-free Satellite Emergency Position-indicating Radio Beacons Operating Through the Geostationary INMARSAT Satellite System on 1.6 GHz,” with Annex, adopted 23 November 1995.

(ii) IMO Resolution A.662(16), “Performance Standards for Float-free Release and Activation Arrangements for Emergency Radio Equipment,” adopted 19 October 1989.

(iii) ITU-R Recommendation M.633-2, “Transmission Characteristics of a Satellite Emergency Position-indicating Radiobeacon (Satellite EPIRB) System Operating Through a Low Polar-orbiting Satellite System in the 406 MHz Band,” 2000.

(iv) The 406.0-406.1 MHz EPIRBs must also comply with § 80.1061.

(6) 9 GHz radar transponders: (i) IMO Resolution A.802(19), “Performance Standards for Survival Craft Radar Transponders for Use in Search and Rescue Operations,” with Annex, adopted 23 November 1995.

(ii) ITU-R Recommendation M.628-3, “Technical Characteristics for Search and Rescue Radar Transponders,” with Annexes, 1994.

(7) Two-Way VHF radiotelephone: (i) IMO Resolution A.809(19), “Performance Standards for Survival Craft Two-Way VHF Radiotelephone Apparatus,” including Annexes 1 and 2, adopted 23 November 1995.

(ii) IMO Resolution MSC.80(70), “Adoption of New Performance Standards for Radiocommunication Equipment,” with Annexes, adopted 8 December 1998.

(8) INMARSAT Ship Earth Station Capable of Two-Way Communications: IMO Resolution A.808(19), “Performance Standards for Ship Earth Stations Capable of Two-Way Communications,” with Annex, adopted 23 November 1995.

(9) INMARSAT-C SES: IMO Resolution A.807(19), “Performance Standards for INMARSAT-C Ship Earth Stations Capable of Transmitting and Receiving Direct-Printing Communications,” with Annex, adopted 23 November 1995, as amended by IMO Resolution MSC.68(68), “Adoption of Amendments to Performance Standards for Shipborne Radiocommunication Equipment,” Satellite communications—2.3(c), adopted 6 June 1997.

(10) INMARSAT EGC: IMO Resolution A.664(16), “Performance Standards for Enhanced Group Call Equipment,” adopted 19 October 1989.

(11) Standards for testing GMDSS equipment:

(i) IEC 1097-1 Ed 1.0, “Global Maritime Distress and Safety System (GMDSS)—Part 1: Radar transponder—Marine Search and Rescue (SART)—Operational and Performance Requirements, Methods of Testing and Required Test Results,” with Annexes, July 1992.

(ii) IEC 1097-3 Ed 1.0, “Global Maritime Distress and Safety System (GMDSS)—Part 3: Digital Selective Calling (DSC) Equipment—Operational and Performance Requirements, Methods of Testing and Required Testing Results,” with Annexes, June 1994.

(iii) IEC 1097-4 Ed 1.0, “Global Maritime Distress and Safety System (GMDSS)—Part 4: INMARSAT-C Ship Earth Station and INMARSAT Enhanced Group Call (EGC) Equipment—Operational and Performance Requirements, Methods of Testing and Required Test Results,” with Annexes, November 1994.

(iv) IEC 1097-6 Ed 1.0, “Global Maritime Distress and Safety System (GMDSS)—Part 6: Narrowband direct-printing telegraph equipment for the reception of navigational and meteorological warnings and urgent information to ships (NAVTEX)—Operational and Performance Requirements, Methods of Testing and Required Test Results,” February 1995.

(v) IEC 1097-7 Ed 1.0, “Global Maritime Distress and Safety System (GMDSS)—Part 7: Shipborne VHF radiotelephone transmitter and receiver—Operational and Performance Requirements, Methods of Testing and Required Test Results,” with Annexes, October 1996.

(vi) IEC 61097-8 Ed 1.0, “Global Maritime Distress and Safety System (GMDSS)—Part 8: Shipborne watchkeeping receivers for the reception of digital selective calling (DSC) in the maritime MF, MF/HF, and VHF bands—Operational and Performance Requirements, Methods of Testing and Required Test Results,” with Annexes, September 1998.

(vii) IEC 61097-9 Ed 1.0, “Global Maritime Distress and Safety System (GMDSS)—Part 9: Shipborne Transmitters and Receivers for Use in the MF and HF Bands Suitable for Telephony, Digital Selective Calling (DSC) and Narrow Band Direct Printing (NBDP)—Operational and Performance Requirements, Methods of Testing and Required Test Results,” with Annexes, December 1997.

(viii) IEC 61097-10 Ed 1.0, “Global Maritime Distress and Safety System (GMDSS)—Part 10: INMARSAT-B Ship Earth Station Equipment—Operational and Performance Requirements, Methods of Testing and Required Test Results,” with Annexes, June 1999.

(ix) IEC 1097-12 Ed 1.0, “Global Maritime Distress and Safety System (GMDSS)—Part 12: Survival Craft Portable Two-Way VHF Radiotelephone Apparatus—Operational and Performance Requirements, Methods of Testing and Required Test Results,” with Annexes, November 1996.

(d) The documents referenced in paragraphs (a) through (c) of this section have been approved for incorporation by reference by the Director of the Federal Register in accordance with 5 U.S.C. 552(a) and 1 CFR Part 51. Identification data and place to purchase for each of the referenced documents are listed as follows:

(1) Copies of IMO Resolutions, the 1974 SOLAS Convention, and the 1983 and 1988 amendments to the 1974 SOLAS Convention can be purchased from Publications, International Maritime Organization, 4 Albert Embankment, London SE1 7SR, United Kingdom.

(i) IMO Resolution A.525(13) is contained in the Resolutions and Other Decisions of the Assembly of the International Maritime Organization, 13th Session, 1983, (IMO, London, 1984), Sales Number 073 84.07.E.

(ii) IMO Resolutions A.802(19), A.803(19), A.804(19), A.806(19), A.807(19), A.808(19), A.810(19), A.811(19) and A.812(19) are contained in the Resolutions and Other Decisions of the Assembly of the International Maritime Organization, 19th Session, 1995, (IMO, London, 1988), Sales Number IMO-194E ISBN No. 91-801-1416-6.

(iii) IMO Resolutions A.662(16) and A.664(16) are contained in the Resolutions and Other Decisions of the Assembly of the International Maritime Organization, 16th Session, 1989, (IMO, London, 1990), Sales Number 136 90.04.E

(iv) IMO Resolutions A.694(17), and A.700(17) are contained in the Resolutions and Other Decisions of the Assembly of the International Maritime Organization, 17th Session, 1991, (IMO, London, 1991), Sales Number IMO-142E ISBN No. 91-801-1281-3.

(2) ITU-R Recommendations, ITU Radio Regulations, and ITU-T publications can be purchased from the International Telecommunication Union (ITU), Place des Nations, CH-1211 Geneva 20, Switzerland.

(i) All ITU-R Recommendations referenced in this section are contained in Recommendations of the ITU-R, Volume M series parts 3, 4, and 5.

(ii) ITU-T Recommendation E.161 is contained in Facicle II.2 Volume II—Telephone Network and ISDN Operation, Numbering, Routing and Mobile Service, (ITU, Geneva, 1989, revised in 1993 and 1995).

(iii) ITU-T Recommendation E.164.1 is contained in Facicle VI.1 Volume II Numbering Plan for the International Telephone Service, (ITU, Geneva, 1989, revised in 1997).

(3) IEC publications can be purchased from the International Electrotechnical Commission, 3 Rue de Varembe, CH-1211 Geneva 20, Switzerland, or from the American National Standards Institute (ANSI), 25 West 43rd Street, New York, NY 10036, telephone (212) 642-4900.

(4) ISO Standards can be purchased from the International Organization for Standardization, 1 Rue de Varembe, CH-1211 Geneva 20, Switzerland, or from the American National Standards Institute (ANSI), 25 West 43rd Street, New York, NY 10036, telephone (212) 642-4900.

(5) Copies of the publications listed in this section that are incorporated by reference can be inspected at the Federal Communications Commission, 445 12th Street, SW., (room CY-A257), Washington, DC, or at the Office of the Federal Register, 800 North Capitol Street, NW., Suite 700, Washington, DC.

108. Section 80.1103 is amended by revising paragraphs (a) and (e) to read as follows:

§ 80.1103 Equipment authorization.

(a) All equipment specified in § 80.1101 must be certificated in accordance with 47 CFR part 2 specifically for GMDSS use, except for equipment used in the INMARSAT space segment which must be type-approved by INMARSAT and verified in accordance with 47 CFR part 2 specifically for GMDSS use. The technical parameters of the equipment must conform to the performance standards as specified in § 80.1101. For emergency position-indicating radiobeacons operating on 406.0-406.1 MHz (406.0-406.1 MHz EPIRBs) that were authorized prior to April 15, 1992, and meet the requirements of § 80.1101, the manufacturer may attest by letter that the equipment (indicate FCC ID#) meets the requirements of § 80.1101 and request that it be denoted as approved for GMDSS use.

* * * * *

(e) In addition to the requirements in part 2 of this chapter, equipment specified in § 80.1101 shall be labeled as follows: “This device complies with the GMDSS provisions of part 80 of the FCC rules.” Such a label is not required for emergency position-indicating radiobeacons operating on 406.0-406.1 MHz (406.0-406.1 MHz EPIRBs) that were authorized prior to April 15, 1992.

109. Section 80.1105 is amended by adding a new paragraph (k) to read as follows:

§ 80.1105 Maintenance requirements.

* * * * *

(k) Satellite EPIRBs shall be tested at intervals not exceeding 12 months for all aspects of operational efficiency with particular emphasis on frequency stability, signal strength and coding. The test may be conducted on board the ship or at an approved testing or servicing station.

110. Section 80.1111 is amended by revising paragraph (d) to read as follows:

§ 80.1111 Distress alerting.

* * * * *

(d) All stations which receive a distress alert transmitted by digital selective calling must immediately cease any transmission capable of interfering with distress traffic and must continue watch on the digital selective call distress calling channel until the call has been acknowledged to determine if a coast station acknowledges the call using digital selective calling. Additionally, the station receiving the distress alert must set watch on the associated distress traffic frequency for five minutes to determine if distress traffic takes place. The ship can acknowledge the call using voice or narrowband direct printing as appropriate on this channel to the ship or to the rescue authority.

111. Section 80.1113 is amended by revising paragraphs (b) and (d) to read as follows:

§ 80.1113 Transmission of a distress alert.

* * * * *

(b) The format of distress calls and distress messages must be in accordance with ITU-R Recommendation M.493-10, “Digital Selective-calling system for use in the Maritime Mobile Service,” with Annexes 1 and 2, 2000, as specified in § 80.1101. ITU-R Recommendation M.493-10 with Annexes 1 and 2 is incorporated by reference. The Director of the Federal Register approves this incorporation by reference in accordance with 5 U.S.C. 552(a) and 1 CFR Part 51. Copies of this standard can be inspected at the Federal Communications Commission, 445 12th Street, SW., Washington, DC (Reference Information Center) or at the Office of the Federal Register, 800 North Capitol Street, NW., Suite 700, Washington, DC. The ITU-R Recommendation can be purchased from the International Telecommunication Union (ITU), Place des Nations, CH-1211 Geneva 20, Switzerland.

* * * * *

(d) Ship-to-ship distress alerts are used to alert other ships in the vicinity of the ship in distress and are based on the use of digital selective calling in the VHF and MF bands. The HF bands should not be used to notify ships in the vicinity unless no response is received within five minutes on VHF or MF.

* * * * *

112. Add § 80.1114 to subpart W to read as follows:

§ 80.1114 False distress alerts.

The provisions of §§ 80.334 and 80.335 apply to false distress alerts.

113. Section 80.1117 is amended by revising paragraph (a) as follows:

§ 80.1117 Procedure for receipt and acknowledgement of distress alerts.

(a) Normally, distress calls received using digital selective calling are only acknowledged using a DSC acknowledgement by a coast station. Ships should delay any acknowledgement in order to give sufficient time for a coast station to acknowledge the call. In cases where no acknowledgement has been heard and no distress traffic has been heard, the ship should transmit a distress alert relay to the coast station. Upon advice from the Rescue Coordination Center, the ship may transmit a DSC acknowledgement call to stop it from being repeated. Acknowledgement by digital selective calling of receipt of a distress alert in the terrestrial services must comply with ITU-R Recommendation M.541-8, “Operational Procedures for the Use of Digital Selective-Calling Equipment in the Maritime Mobile Service,” with Annexes, 1997. ITU-R Recommendation M.541-8 with Annexes is incorporated by reference. The Director of the Federal Register approves this incorporation by reference in accordance with 5 U.S.C. 552(a) and 1 CFR Part 51. Copies of this standard can be inspected at the Federal Communications Commission, 445 12th Street, SW., Washington, DC (Reference Information Center) or at the Office of the Federal Register, 800 North Capitol Street, NW., Suite 700, Washington, DC. The ITU-R Recommendation can be purchased from the International Telecommunication Union (ITU), Place des Nations, CH-1211 Geneva 20, Switzerland.

* * * * *

114. Section 80.1121 is amended by revising paragraphs (b), (c), and (d) to read as follows:

§ 80.1121 Receipt and acknowledgement of distress alerts by ship stations and ship earth stations.

* * * * *

(b) For VHF and MF, ships in receipt of a distress alert shall not transmit a distress alert relay, but should listen on the distress traffic channel for 5 minutes and, if appropriate, acknowledge the alert by radiotelephony to the ship in distress and inform the coast station and/or Rescue Coordination Center. Distress alert relays to “all ships” on these bands may only be sent by a ship who has knowledge that another ship in distress is not itself able to transmit the distress alert, and the Master of the ship considers that further help is necessary.

(c) For HF, ships in receipt of a distress alert shall listen on the distress traffic channel for 5 minutes. If no distress communications are heard and if the call is not acknowledged by a coast station, the ship shall transmit a distress relay on HF to the coast radio station and inform the Rescue Coordination Center. Distress alert relays to “all Ships” on HF may only be sent by a ship who has knowledge that another ship in distress is not itself able to transmit the distress alert, and the Master of the ship considers that further help is necessary.

(d) In cases where distress alert continues to be received from the same source, the ship may, after consultation with the Rescue Coordination Center, transmit a DSC acknowledgment to terminate the call.

* * * * *

115. Section 80.1123 is amended by revising paragraphs (c) and (d) to read as follows:

§ 80.1123 Watch requirements for ship stations.

* * * * *

(c) Until February 1, 2005, every ship while at sea must maintain, when practicable, a continuous listening watch on VHF Channel 16. This watch must be kept at the position from which the ship is normally navigated or at a position which is continuously manned.

(d) Every ship required to carry a radiotelephone watch receiver must maintain, while at sea, a continuous watch on the radiotelephone distress frequency 2182 kHz. This watch must be kept at the position from which the ship is normally navigated or at a position which is continually manned.

* * * * *

116. Section 80.1125 is amended by revising paragraph (b) to read as follows:

§ 80.1125 Search and rescue coordinating communications.

* * * * *

(b) Error correction techniques, in accordance with ITU-R Recommendation M.625-3, “Direct-printing Telegraph Equipment Employing Automatic Identification in the Maritime Mobile Service,” with Annex, 1995, as specified in § 80.1101, must be used for distress traffic by direct-printing telegraphy. All messages must be preceded by at least one carriage return, a line feed signal, a letter shift signal and the distress signal MAYDAY. ITU-R Recommendation M.625-3 with Annex is incorporated by reference. The Director of the Federal Register approves this incorporation by reference in accordance with 5 U.S.C. 552(a) and 1 CFR Part 51. Copies of this standard can be inspected at the Federal Communications Commission, 445 12th Street, SW., Washington, DC (Reference Information Center) or at the Office of the Federal Register, 800 North Capitol Street, NW., Suite 700, Washington, DC. The ITU-R Recommendation can be purchased from the International Telecommunication Union (ITU), Place des Nations, CH-1211 Geneva 20, Switzerland.

* * * * *

117. Section 80.1127 is amended by revising paragraphs (b) and (c) to read as follows:

§ 80.1127 On-scene communications.

* * * * *

(b) Control of on-scene communications is the responsibility of the unit coordinating search and rescue operations. Simplex communications must be used so that all on-scene mobile stations may share relevant information concerning the distress incident. If direct-printing telegraphy is used, it must be in the forward error-correcting mode in accordance with ITU-R Recommendation M.625-3, with Annex, as specified in § 80.1101.

(c) The preferred frequencies in radiotelephony for on-scene communications are 156.8 MHz and 2182 kHz. The frequency 2174.5 kHz may also be used for ship-to-ship on-scene communications using narrow-band direct-printing telegraphy in the forward error correcting mode in accordance with ITU-R Recommendation M.625-3, “Direct-printing Telegraph Equipment Employing Automatic Identification in the Maritime Mobile Service,” with Annex, 1995, as specified in § 80.1101. ITU-R Recommendation M.625-3 with Annex is incorporated by reference. The Director of the Federal Register approves this incorporation by reference in accordance with 5 U.S.C. 552(a) and 1 CFR Part 51. Copies of this standard can be inspected at the Federal Communications Commission, 445 12th Street, SW., Washington, DC (Reference Information Center) or at the Office of the Federal Register, 800 North Capitol Street, NW., Suite 700, Washington, DC. The ITU-R Recommendation can be purchased from the International Telecommunication Union (ITU), Place des Nations, CH-1211 Geneva 20, Switzerland.

* * * * *

118. Section 80.1129 is amended by revising paragraph (d) to read as follows:

§ 80.1129 Locating and homing signals.

* * * * *

(d) The 9 GHz locating signals must be in accordance with ITU-R Recommendation M.628-3, “Technical Characteristics for Search and Rescue Radar Transponders,” with Annexes, 1994, as specified in § 80.1101. ITU-R Recommendation M.628-3 with Annexes is incorporated by reference. The Director of the Federal Register approves this incorporation by reference in accordance with 5 U.S.C. 552(a) and 1 CFR Part 51. Copies of this standard can be inspected at the Federal Communications Commission, 445 12th Street, SW., Washington, DC (Reference Information Center) or at the Office of the Federal Register, 800 North Capitol Street, NW., Suite 700, Washington, DC. The ITU-R Recommendation can be purchased from the International Telecommunication Union (ITU), Place des Nations, CH-1211 Geneva 20, Switzerland.

119. Section 80.1131 is amended by revising paragraph (j) to read as follows:

§ 80.1131 Transmissions of urgency communications.

* * * * *

(j) Error correction techniques, in accordance with ITU-R Recommendation M.625-3, “Direct-printing Telegraph Equipment Employing Automatic Identification in the Maritime Mobile Service,” with Annex, 1995, as specified in § 80.1101, must be used for urgency messages by direct-printing telegraphy. All messages must be preceded by at least one carriage return, a line feed signal, a letter shift signal and the urgency signal PAN PAN. ITU-R Recommendation M.625-3 with Annex is incorporated by reference. The Director of the Federal Register approves this incorporation by reference in accordance with 5 U.S.C. 552(a) and 1 CFR Part 51. Copies of this standard can be inspected at the Federal Communications Commission, 445 12th Street, SW., Washington, DC (Reference Information Center) or at the Office of the Federal Register, 800 North Capitol Street, NW., Suite 700, Washington, DC. The ITU-R Recommendation can be purchased from the International Telecommunication Union (ITU), Place des Nations, CH-1211 Geneva 20, Switzerland.

* * * * *

120. Section 80.1133 is amended by revising paragraph (g) to read as follows:

§ 80.1133 Transmission of safety communications.

* * * * *

(g) Error correction techniques, in accordance with ITU-R Recommendation M.625-3, “Direct-printing Telegraph Equipment Employing Automatic Identification in the Maritime Mobile Service,” with Annex, 1995, as specified in § 80.1101, must be used for safety messages by direct-printing telegraphy. All messages must be preceded by at least one carriage return, a line feed signal, a letter shift signal and the safety signal SECURITE. ITU-R Recommendation M.625-3 with Annex is incorporated by reference. The Director of the Federal Register approves this incorporation by reference in accordance with 5 U.S.C. 552(a) and 1 CFR Part 51. Copies of this standard can be inspected at the Federal Communications Commission, 445 12th Street, SW., Washington, DC (Reference Information Center) or at the Office of the Federal Register, 800 North Capitol Street, NW., Suite 700, Washington, DC. The ITU-R Recommendation can be purchased from the International Telecommunication Union (ITU), Place des Nations, CH-1211 Geneva 20, Switzerland.

* * * * *

121. Section 80.1135 is amended by revising paragraph (b) to read as follows:

§ 80.1135 Transmission of maritime safety information.

* * * * *

(b) The mode and format of the transmissions mentioned in this section is in accordance with the ITU-R Recommendation M.540 as specified in § 80.1101.

* * * * *

[FR Doc. 03-19687 Filed 8-6-03; 8:45 am]

BILLING CODE 6712-01-P